DEPARTMENT OF HEALTH AND HUMAN SERVICES

Administration for Children and Families

Projects of National Significance: Ongoing Data Collection

Program Office Name: Administration on Developmental Disabilities (ADD).

Announcement Type: Cooperative Agreement—Initial.

Funding Opportunity Number: HHS-2004-ACF-ADD-DN-0004.

CFDA Number: 93.631.

Dates: Applications are due August 23, 2004.

I. Funding Opportunity Description

General Description

The Administration on Developmental Disabilities (ADD) in the Administration for Children and Families (ACF), the U.S. Department of Health and Human Services announces the availability of fiscal year (FY) 2004 funds for cooperative agreements authorized under Subtitle E of the Developmental Disabilities Assistance and Bill of Rights Act of 2000, Projects of National Significance (PNS). Under this Subtitle, funds will be awarded to collect, analyze, and report on data to describe services and supports for persons with developmental disabilities. There are four Priority Areas under this announcement with the following objectives:

• Priority Area I: To conduct analyses and provide rapid responses that describe the movement of people with developmental disabilities from institutional to community settings (especially domiciles of their own) and the outcomes experienced by individuals with developmental disabilities who receive publicly funded residential services.

• Priority Area II: To investigate, report on, and provide rapid response to information needs related to the financial and programmatic trends in services for people with developmental disabilities that support and promote their well-being.

• Priority Area III: To examine, report on, and provide rapid responses regarding the employment status of people with developmental disabilities and related outcomes as a result of programs that support their employment.

• Priority Area IV: To implement an Internet site that will provide relevant content and information on the Medicaid program for individuals with developmental disabilities and their families.

Background on ADD and ADD Programs

The Administration on Developmental Disabilities (ADD) in the Administration for Children and Families (ACF), Department of Health and Human Services (DHHS) shares common goals with other ACF programs that promote the economic and social well-being of families, children, individuals, and communities. ACF and ADD envision:

• Families and individuals empowered to increase their own economic independence and productivity;

• Strong, healthy, supportive communities having a positive impact on the quality of life and the development of children;

• Partnerships with individuals, front-line service providers, communities, States, and Congress that enable solutions which transcend traditional agency boundaries;

• Services planned and integrated to improve access to programs and supports for individuals and families;

• A community-based approach that recognizes and expands on the resources and benefits of diversity; and

• A recognition of the power and effectiveness of public-private partnerships, including collaboration among a variety of community groups and government agencies, such as a coalition of faith-based organizations, grassroots groups, families, and public agencies to address a community need.

The goals, listed above, will enable more individuals, including people with developmental disabilities, to live productive and independent lives integrated into their communities. The Projects of National Significance are a means by which ADD promotes the achievement of these goals.

ADD is the lead agency within ACF and DHHS responsible for planning and administering programs to promote self-sufficiency and protect the rights of persons with developmental disabilities. ADD implements the Developmental Disabilities Assistance and Bill of Rights Act, the DD Act, which was authorized by Congress in 2000.

The DD Act of 2000 (42 U.S.C. 15001) supports and provides assistance to States, public agencies, and private non-profit organizations, including faith-based and community organizations, to assure that individuals with developmental disabilities and their families participate in the design of and have access to culturally competent services, supports, and other assistance and opportunities that promote independence, productivity, integration, and inclusion into the community.

As defined in the DD Act, the term “developmental disabilities” means a severe, chronic disability of an individual that is attributable to a mental or physical impairment or combination of mental and physical impairments that is manifested before the individual attains age 22 and is likely to continue indefinitely. Developmental disabilities result in substantial limitations in three or more of the following functional areas: self-care, receptive and expressive language, learning, mobility, self-direction, capacity for independent living, and capacity for economic self-sufficiency.

A number of significant findings are identified in the DD Act, including:

• Disability is a natural part of the human experience that does not diminish the right of individuals with developmental disabilities to enjoy the opportunity for independence, productivity, integration, and inclusion into the community.

• Individuals whose disabilities occur during their developmental period frequently have severe disabilities that are likely to continue indefinitely.

• Individuals with developmental disabilities often require lifelong specialized services and assistance, provided in a coordinated and culturally competent manner by many agencies, professionals, advocates, community representatives, and others to eliminate barriers and to meet the needs of such individuals and their families.

The DD Act also promotes the best practices and policies presented below:

• Individuals with developmental disabilities, including those with the most severe developmental disabilities, are capable of achieving independence, productivity, integration, and inclusion into the community, and often require the provision of services, supports, and other assistance to achieve such.

• Individuals with developmental disabilities have competencies, capabilities, and personal goals that should be recognized, supported, and encouraged, and any assistance to such individuals should be provided in an individualized manner, consistent with the unique strengths, resources, priorities, concerns, abilities, and capabilities of the individual.

• Individuals with developmental disabilities and their families are the primary decision makers regarding the services and supports such individuals and their families receive, and play decision making roles in policies and programs that affect the lives of such individuals and their families.

Toward these ends, ADD seeks to support and accomplish the following:

• Enhance the capabilities of families in assisting individuals with developmental disabilities to achieve their maximum potential;

• Support the increasing ability of individuals with developmental disabilities to exercise greater choice and self-determination and to engage in leadership activities in their communities; and

• Ensure the protection of individuals with developmental disabilities' legal and human rights.

The four programs funded under the DD Act are:

• State Developmental Disabilities Councils;

• State Protection and Advocacy Systems for Individuals with Developmental Disabilities' Rights;

• Grants to the National Network of University Centers for Excellence in Developmental Disabilities, Education, Research, and Service; and

• Grants for Projects of National Significance.

Through the Projects of National Significance (PNS) grant program, ADD has awarded in the past cooperative agreements for data collection and information dissemination efforts to better understand the support and service delivery system for people with developmental disabilities. The most recent funding for these awards was intended to measure the effect of national policy changes that modified the nature of financial assistance to individuals with developmental disabilities. Specifically, ADD sought to identify the extent to which individuals with developmental disabilities were included in programs and the measurable outcomes that result in participation in such programs.

Given ADD's interest in promoting the increased independence, productivity, and community integration of individuals with developmental disabilities, the main purpose of the data collection and information dissemination projects is to continue to support research and information collection efforts that shed light on the nature of services and related outcomes for individuals with developmental disabilities. Under this cooperative agreement, ADD will fund projects that are designed to assess trends and gaps in the services for individuals with developmental disabilities, identify outcomes for individuals with developmental disabilities who receive services, and provide the field, including consumers, with timely information.

Terms and Conditions of the Cooperative Agreement

This Program Announcement describes awards that will be made as a cooperative agreement. While an organization will not be conducting its project on behalf of ADD, ADD and the awardees will share work cooperatively in the development and implementation of the projects' agenda. Under the cooperative agreement mechanism, ADD and the awardees will share the responsibility for planning the objectives of the projects. Awardees will have the primary responsibility for developing and implementing the activities of the project. ADD will jointly participate with awardees in such activities as clarifying the specific topic areas to be addressed through periodic briefings and ongoing consultation, sharing with awardees its knowledge of the issues being addressed by past and current projects, and providing feedback to awardees about the usefulness to the field of written products and information sharing activities. The details of the relationship between ADD and awardees will be set forth in the cooperative agreement to be developed and signed prior to issuance of the award.

Priority Area I of this Program Announcement shall provide a funding opportunity for research activities that examine on a national level the movement of people with developmental disabilities from institutional to community settings (especially domiciles of their own) and the outcomes experienced by individuals with developmental disabilities who receive publicly funded residential services. This Program Announcement also contains a Priority Area II for investigations into the financial and programmatic trends in services for people with developmental disabilities that support and promote their well-being. Additionally, applications are being sought for Priority Area III to examine from a national perspective the employment status of people with developmental disabilities and related outcomes as a result of employment. Finally, Priority Area IV seeks applications for one project that will implement an Internet site which provides relevant information on Medicaid for individuals with developmental disabilities and their families to better assist these individuals in gaining access to and benefiting from these services.

Projects under each Priority Area may involve the collection of new data, the analysis of current data collected in the States, or a combination of both. ADD intends to fund at least 1 grant in each Priority Area on a competitive basis.

Each applicant is responsible for responding to the ADD Performance System. This System is framed by accountability requirements of the DD Act and Federal government, including those established under the ACF Annual Report Plan for the Government Performance and Results Act. The accountability provisions are discussed for each Priority Area.

Other General Information:

Anticipated Total Funding: $1,050,000.

Anticipated Number of Awards: 3-4 per budget period.

Ceiling on Amount of Individual Awards: Individual priority areas range from $150,000 to $300,000 per budget period.

Floor on Amount of Individual Awards: None.

Average Projected Award Amount: Individual priority areas range from $150,000 to $300,000 per budget period.

Project Periods for Awards: This announcement is inviting applications for project periods up to three years. Awards, however, will be made on a competitive basis, for a one-year budget period. Applications for continuation cooperative agreements funded under these awards beyond the one-year budget period but within the three year project period will be entertained in subsequent years on a noncompetitive basis, subject to availability of funds, satisfactory progress of the grantee and a determination that continued funding would be in the best interest of the Government.

Priority Area I: Residential Services for People With Developmental Disabilities

Purpose:

To better understand the landscape of residential services for people with developmental disabilities and the impact of national programs, such as those authorized under the DD Act, the purpose of Priority Area I is to conduct analyses that describe the movement of people with developmental disabilities from institutional to community settings (especially domiciles of their own) and the outcomes experienced by individuals with developmental disabilities who receive publicly and, to the extent possible, privately funded residential services.

Over 20 years ago, most people with developmental disabilities lived in institutions. In an effort to move people out of these settings, the “deinstitutionalization” movement increased the use of supervised community living settings. With a continued focus on moving people with developmental disabilities into community living experiences, residential services currently emphasize community integration that promotes self-determination and opportunities for people with developmental disabilities to be a part of the community.

Despite positive efforts to increase access to community living, great variability continues to characterize the extent to which people living in various States are provided the opportunity to live in community settings. Moreover, providing adequately supported access to community services for people with significant medical and behavioral needs still presents challenges, and as a result community services for people with the most severe developmental disabilities have been slower to develop.

To meet the intent of Priority Area I, the following are the minimum requirements for the project design:

Project Design and Methods: Applicants should identify the project design and methods for carrying out activities under this funding opportunity. At a minimum, applicants should outline, as appropriate:

• The research design (e.g., case study, longitudinal, State level policy analyses, descriptive) for describing services and measuring program impact;

• Indicators for measuring program impact;

• The necessary steps for collecting new data the project will generate and/or the current data the project will analyze;

• Data sources, including primary and secondary sources;

• Quantitative and/or qualitative methods of analysis and plans for ensuring the reliability and validity of the analysis;

• Plans for a rapid response system whereby information needs are addressed in a timely fashion; and

• A description of the Project commitment to work with ADD under the cooperative agreement.

Topics: Applicants should address topics that are timely and responsive to the information needs of multiple audiences concerned about services for people with developmental disabilities. In discussing the project approach, applicants should indicate what topics will be addressed in the analysis, which could include:

• An understanding of housing issues from multiple perspectives, such as State agencies, community service providers, consumers of services, etc.;

• Extent to which the goals of the system promotes community inclusion;

• States policies or practices that support access to residential services as a key outcome for persons with developmental disabilities;

• Coordination across other agencies or initiatives, such as one-stop entities;

• Efficacy of outreach methods;

• The effect of new fiscal strategies that are not tied to Medicaid; and

• Promising practices.

Any topic discussed in the application should include reference to ways in which impact will be a part of the analysis.

Identification of Services: Applicants should identify the existing State and Federal laws under review that impact people with developmental disabilities. At a minimum, the applicant should provide details of the following:

• The laws and policies governing services for people with developmental disabilities the project proposes to examine;

• Funding streams for services and supports to people with developmental disabilities and their families; and

• Eligibility criteria and other relevant program requirements.

Applicants should indicate any programs operated in the private sector that will be included in the analysis.

Key Personnel: Each grantee should ensure that key project personnel have direct experience with and/or knowledge in conducting research using a variety of approaches such as using large, national databases.

Civil Rights: Each grantee must comply with the Americans with Disabilities Act, where applicable, and Section 504 of the Rehabilitation Act of 1973 as amended by the Rehabilitation Act Amendments of 1998.

Communication and Dissemination: Each applicant must provide a detailed description of plans for regularly communicating and disseminating information to the public through e-mail and other effective, affordable, and accessible forms of electronic communication, which may include monthly newsletters, the publication of datasets on websites or regularly scheduled research briefs and fact sheets on topical areas. Applicants should discuss how information on the internet will be compliant with Section 508.

Annual Report: The applicant must describe how they will meet requirements of the ADD Performance System through the development of an annual report. This narrative and numerical report must describe on a yearly basis changes related to housing for people with developmental disabilities. Specifically, the applicants must describe how they will report on the percentage of individuals with developmental disabilities who are more independent, self-sufficient, and integrated into the community as a result of housing services. The report should provide national perspectives and, as appropriate, state-by-state analyses. The annual report will be due by the end of the project fiscal year and must be made available to the public.

II. Award Information

Funding Instrument Type: Cooperative Agreement.

Description of Federal Involvement with Cooperative Agreement: Please see “I. Funding Opportunity Description, General Description, Terms and Conditions of the Cooperative Agreement” for a complete description of the cooperative agreement.

Anticipated Total Priority Area Funding: $300,000.

Anticipated Number of Awards: 1 per budget period.

Ceiling on Amount of Individual Annual Awards: $300,000 per budget period.

Floor of Individual Award Amounts: None.

Average Projected Award Amount: $300,000 per budget period.

Project Periods for Awards: This announcement is inviting applications for project periods up to three years. Awards, however, will be made on a competitive basis, for a one-year budget period. Applications for continuation grants funded under these awards beyond the one-year budget period but within the three-year project period will be entertained in subsequent years on a noncompetitive basis, subject to availability of funds, satisfactory progress of the grantee and a determination that continued funding would be in the best interest of the Government.

III. Eligibility Information

1. Eligible Applicants

State Governments, County Governments, City or Township Governments, State Controlled Institutions of Higher Education, Native American Tribal Governments (Federally Recognized), Public Housing Authorities/Indian Housing Authorities, Non-profits having 501 (c) (3) status with the IRS, other than institutions of higher education, Non-profits that do not have 501 (c) (3) status with the IRS, other than institutions of higher education, and private Institutions of Higher Learning.

Additional Information on Eligibility:

• Non-profit organizations must demonstrate proof of non-profit status. Proof of non-profit status is any one of the following:

a. A reference to the applicant organization's listing in the Internal Revenue Service's (IRS) most recent list of tax-exempt organizations described in the IRS code;

b. A copy of a currently valid IRS tax exemption certificate;

c. A statement from a State taxing body, State Attorney General, or other appropriate State official certifying that the applicant organization has a non-profit status and that none of the net earnings accrue to any private shareholders or individuals;

d. A certified copy of the organization's certificate of incorporation or similar document that clearly establishes non-profit status; or

e. Any of the items in the subparagraphs immediately above for a State or national parent and a statement signed by the parent organization that the applicant organization is a local non-profit affiliate.

Applicants are cautioned that the ceiling for individual awards is $300,000. An application exceeding the $300,000 threshold will be considered non-responsive and returned without review.

2. Cost Sharing or Matching

Grantees must provide at least 25 percent of the total approved cost of the project. The total approved cost of the project is the sum of the ACF share and the non-federal share. The non-federal share may be met by cash or in-kind contributions, although applicants are encouraged to meet their match requirements through cash contributions. For example, in order to meet the match requirements, a project with a total approved cost of $400,000, requesting $300,000 in ACF funds, must provide a non-federal share of at least 100,000 (25% of total approved project cost of $400,000). Grantees will be held accountable for commitments of non-federal resources even if over the amount of the required match. Failure to provide the amount will result in disallowance of Federal funds.

Applications that fail to include the required amount of cost-share will be considered non-responsive and returned without review.

3. Other (if Applicable)

On June 27, 2003, the Office of Management and Budget published in the Federal Register a new Federal policy applicable to all Federal grant applicants. The policy requires Federal grant applicants to provide a Dun and Bradstreet Data Universal Numbering System (DUNS) number when applying for Federal grants or cooperative agreements on or after October 1, 2003. The DUNS number will be required whether an applicant is submitting a paper application or using the government-wide electronic portal (http://www.Grants.gov). A DUNS number will be required for every application for a new award or renewal/continuation of an award, including applications or plans under formula, entitlement and block grant programs, submitted on or after October 1, 2003.

Please ensure that your organization has a DUNS number. You may acquire a DUNS number at no cost by calling the dedicated toll-free DUNS number request line at 1-866-705-5711 or you may request a number on-line at http://www.dnb.com

Applicants are cautioned that the ceiling for individual awards is $300,000. Applications exceeding the $300,000 threshold will be considered non-responsive and will not be eligible for funding under this announcement.

Applications that fail to include the required amount of cost-share will be considered non-responsive and returned without review.

IV. Application and Submission Information

1. Address To Request an Application Package

Jennifer Johnson, Program Specialist, Administration on Developmental Disabilities, Office of Operations and Discretionary Grants, Mail Stop: HHH 405-D, 370 L'Enfant Promenade, SW., Washington, DC 20447, Phone: 202-690-5982, E-mail: jjohnson1@acf.hhs.gov.

2. Content and Form of Application Submission

You may submit your application to us in either electronic or paper format. To submit an application electronically, please use the http://www.Grants.gov apply site. If you use Grants.gov, you will be able to download a copy of the application package, complete it off-line, and then upload and submit the application via the Grants.gov site. You may not e-mail an electronic copy of a grant application to us.

Please note the following if you plan to submit your application electronically via Grants.gov:

• Electronic submission is voluntary.

• When you enter the Grants.Gov site, you will find information about submitting an application electronically through the site, as well as the hours of operation. We strongly recommend that you do not wait until the application deadline date to begin the application process through Grants.gov.

• To use Grants.gov, you, as the applicant, must have a DUNS Number and register in the Central Contractor Registry (CCR). You should allow a minimum of five days to complete the CCR registration.

• You will not receive additional point value because you submit a grant application in electronic format, nor will we penalize you if you submit an application in paper format.

• You may submit all documents electronically, including all information typically included on the SF 424 and all necessary assurances and certifications.

• Your application must comply with any page limitation requirements described in this Program Announcement and meet the application deadline.

• After you electronically submit your application, you will receive an automatic acknowledgement from Grants.gov that contains a Grants.gov tracking number. The Administration for Children and Families will retrieve your application from Grants.gov.

• We may request that you provide original signatures on forms at a later date.

• You may access the electronic application for this program on http://www.Grants.gov.

• You must search for the downloadable application package by the CFDA number.

Electronic Address where applications will be accepted: http://www.Grants.gov.

The required application package will include the following using the format described:

Format

The project description must not exceed 50 double-spaced, numbered, typed pages including an abstract and a table of contents. Any application which exceeds the page limit requirement will have the additional pages removed from the application prior to the review. The type must not be smaller than 12 pitch or a point size of 12.

Project Description

Please see Section V. 1. Criteria, for instructions on preparing the project summary/abstract and the full project description.

Budget

The applicant shall develop a full budget, including a completed SF 424A, “Budget Information—Non-Construction Programs,” a detailed budget breakdown by object class categories listed in the SF 424A, Section B, and a narrative budget justification, for a twelve-month budget period. The SF 424 forms are provided below in this announcement. The applicant must include the twelve-month Federal budget under Column (1), the twelve-month non-Federal budget under Column (2), and the total twelve-month budget under Column (5) of the SF 424A. The applicant shall use the three-column approach when preparing the detailed budget breakdown. For the remaining two years of the requested project period, the applicant must complete SF 424A, Section E, indicating the total forecasted budget for each year. The applicant must also provide a lump sum figure for non-Federal contributions for the second through third years of the project on SF 424A, Section C. Applicants have the option of omitting from the application copies (not the original) specific salary rates or amounts for individuals specified in the application budget. If the procurement policy of an applicant's institution includes an equipment definition other than the current Federal definition, a copy of the institution's current definition should be included in the application. Please see Section V.1 Criteria for additional guidance.

Appendix

The Appendix must not exceed 40 pages. Supplementary material, intended to provide examples of activities, may be included in the Appendix for reviewers but shall adhere to the page limit requirement. The Appendix must be included with the original and the two copies of the application.

Checklist for a Complete Application

The checklist below is for your use to ensure that your application package has been properly prepared.

—One original, signed and dated application, plus two copies;

—Application is from an organization that is eligible under the eligibility requirements, defined in the Priority Area description; and

—Application length does not exceed 50 pages

—Application for Federal Assistance (SF 424, REV 4-88);

—A completed SPOC certification with the date of SPOC contact entered in line 16, page 1 of the SF 424 if applicable;

—Budget Information—Non-Construction Programs (SF 424A, REV 4-88);

—Budget justification for Section B—Budget Categories;

—Table of Contents;

—Letter from the Internal Revenue Service, etc. to prove non-profit status, if necessary;

—Copy of the applicant's approved indirect cost rate agreement, if appropriate; (when charging indirect costs to Federal funds or when using indirect costs as a matching share);

—Project Description;

—Letter(s) of commitment verifying non-Federal cost share

—Any appendices/attachments;

—Assurances—Non-Construction Programs (Standard Form 424B, REV 4-88);

—Certification Regarding Lobbying;

—Certification of Protection of Human Subjects, if necessary; and

—Certification of the Pro Children Act of 1994, signature on the application represents certification.

• Assurances/Certifications

Applicants are required to submit a SF 424B, Assurances—Non-Construction Programs and the Certification Regarding Lobbying. Applicants must provide a certification concerning lobbying. Prior to receiving an award in excess of $100,000, applicants should furnish an executed copy of the lobbying certification (approved by the Office of Management and Budget under control number 0348-0046). Applicants must sign and return the certification with their application.

Applicant must also understand that they will be held accountable for the smoking prohibition included within Pub. L. 103-227, Part C Environmental Tobacco Smoke (also known as the Pro-Children's Act of 1994). By signing and submitting the application, applicants are providing the certification and need not mail back the certification with the application.

In addition, applicants are required under Section 162(c)(3) of the Act to provide assurances that the human rights of all individuals with developmental disabilities (especially those individuals without familial protection) who will receive services under projects assisted under Part E will be protected consistent with section 110 (relating to the rights of individuals with developmental disabilities). Each application must include a statement providing this assurance.

For research projects in which human subjects may be at risk, a Protection of Human Subjects Assurance may be required. If there is a question regarding the applicability of this assurance, contact the Office for Research Risks of the National Institutes of Health at (301) 496-7041.

Non-profit applicants must demonstrate proof of their non-profit status and this proof must be included in their application. Proof of non-profit status is any one of the following:

a. A reference to the applicant organization's listing in the Internal Revenue Service's (IRS) most recent list of tax-exempt organizations described in the IRS code;

b. A copy of a currently valid IRS tax exemption certificate;

c. A statement from a State taxing body, State Attorney General, or other appropriate State official certifying that the applicant organization has a non-profit status and that none of the net earnings accrue to any private shareholders or individuals;

d. A certified copy of the organization's certificate of incorporation or similar document that clearly establishes non-profit status; or

e. Any of the items in the subparagraphs immediately above for a State or national parent and a statement signed by the parent organization that the applicant organization is a local non-profit affiliate.

3. Submission Dates and Times

The closing time and date for receipt of applications is 4:30 p.m. (Eastern Time Zone) on August 23, 2004. Mailed or hand carried applications received after 4:30 p.m. on the closing date will be classified as late.

Deadline: Mailed applications shall be considered as meeting an announced deadline if they are received on or before the deadline time and date at the following address: U.S. Department of Health and Human Services, Administration for Children and Families, Office of Grants Management, 370 L'Enfant Promenade SW., 8th Floor, Washington, DC 20447, Attention: Lois Hodge.

Applicants are responsible for mailing applications well in advance, when using all mail services, to ensure that the applications are received on or before the deadline time and date. ACF will not be sending applicants notifications that their applications were received under this Program Announcement by the deadline.

Applications hand carried by applicants, applicant couriers, other representatives of the applicant, or by overnight/express mail couriers shall be considered as meeting an announced deadline if they are received on or before the deadline date, between the hours of 8 a.m. and 4:30 p.m., EST, at the following address: U.S. Department of Health and Human Services, Administration for Children and Families, Office of Grants Management, 370 L'Enfant Promenade SW., 8th Floor, Washington, DC 20447, Attention: Lois Hodge.

Late applications: Applications which do not meet the criteria above are considered late applications. ACF shall notify each late applicant that its application will not be considered in the current competition.

Extension of deadlines: ACF may extend application deadlines when circumstances such as acts of God (floods, hurricanes, etc.) occur, or when there are widespread disruptions of mail service. Determinations to extend or waive deadline requirements rest with the Chief Grants Management Officer.

Required Forms:

What to submit | Required content | Required form or format | When to submit
SF424, SF424a, SF424B | Per required form | May be found at http://www.acf.hhs.gov/program/ofs/forms.htm | August 23, 2004.
Project Summary/Abstract | Summary of application request | One page limit | August 23, 2004.
Project Description | Responsiveness to evaluation criteria | Format described in Review and Selection section. Limit 60 pages. Size 12 font, ½″ margins | August 23, 2004.
Certification Regarding Lobbying | Per required form | May be found at http://www.acf.hhs.gov/ program/ofs/ forms.htm | August 23, 2004.
Disclosure of Lobbying Activities (SF-LLL) | Per required form | May be found at http://www.acf.hhs.gov/program/ofs/forms.htm | August 23, 2004.
Environmental Tobacco Smoke Certification | Per required form | May be found at http://www.acf.hhs.gov/program/ofs/forms.htm | August 23, 2004.

Additional Forms:

Private-non-profit organizations are encouraged to submit with their applications the additional survey located under “Grant Related Documents and Forms” titled “Survey for Private, Non-Profit Grant Applicants”.

What to submit | Required content | Required form or format | When to submit
Survey for Private, Non-Profit Grant Applicants | Per required form | May be found on http://www.acf.hhs.gov/programs/ofs/form.htm | By application due date.

4. Intergovernmental Review

State Single Point of Contact (SPOC), Notification Under Executive Order 12372

This program is covered under Executive Order (E.O.) 12372, “Intergovernmental Review of Federal Programs”, and 45 CFR Part 100, “Intergovernmental Review of Department of Health and Human Services Programs and Activities”. Under the Order, States may design their own processes for reviewing and commenting on proposed Federal assistance under covered programs

As of January, 2003, of the most recent SPOC list, the following jurisdictions have elected not to participate in the Executive Order process: Alabama, Alaska, Colorado, Connecticut, Hawaii, Idaho, Kansas, Louisiana, Massachusetts, Minnesota, Montana, Nebraska, New Jersey, New York, Ohio, Oklahoma, Oregon, Palau, Pennsylvania, South Dakota, Tennessee, Vermont, Virginia and Washington. Applicants from these jurisdictions or for projects administered by federally-recognized Indian Tribes need take no action in regard to E.O. 12372.

Although the jurisdictions listed above no longer participate in the process, entities which have met the eligibility requirements of the program are still eligible to apply for a grant even if a State, Territory, Commonwealth, etc. does not have a SPOC.

All remaining jurisdictions participate in the Executive Order process and have established SPOCs. Applicants from participating jurisdictions should contact their SPOCs as soon as possible to alert them of the prospective applications and receive instructions. Applicants must submit any required material to the SPOCs as soon as possible so that the program office can obtain and review SPOC comments as part of the award process. The applicant must submit all required materials, if any, to the SPOC and indicate the date of this submittal (or the date of contact if no submittal is required) on the Standard Form 424, item 16a. Under 45 CFR 100.8(a)(2), a SPOC has 60 days from the application deadline to comment on proposed new or competing continuation awards.

SPOCs are encouraged to eliminate the submission of routine endorsements as official recommendations. Additionally, SPOCs are requested to clearly differentiate between mere advisory comments and those official State process recommendations which may trigger the “accommodate or explain” rule.

When comments are submitted directly to ACF, they should be addressed to: Department of Health and Human Services, Administration for Children and Families, Division of Discretionary Grants and Audit Resolution, 370 L'Enfant Promenade, SW., Mail Stop 6C-462, Washington, DC 20447.

The official list, including addresses, of the jurisdictions elected to participate in E.O. 12372 can be found at: http://www.whitehouse.gov/omb/grants/spoc.html

5. Funding Restrictions

Non-Allowable Costs: Reimbursement of pre-award costs, costs for foreign travel, or costs for construction activities are not allowable charges to this Federal grant program.

Indirect Costs: In order to charge Indirect Costs to the Federal Funds and/or use Indirect Costs as a matching share, the applicant must have an approved indirect costs agreement for the period in which the Federal funds would be awarded.

6. Other Submission Requirements

Submission by Mail: An Applicant must provide an original application with all attachments, signed by an authorized representative and two copies. The Application must be received at the address below by 4:30 p.m. Eastern Standard Time on or before the closing date. Applications should be mailed to: The U.S. Department of Health and Human Services, ACF Office of Grants Management, 370 L'Enfant Promenade SW. 8th Floor, Washington, DC 20447, Attention: Lois Hodge.

Hand-Deliver: Applicants choosing to hand-deliver applications by either themselves or by an agent, must have the application delivered by 4:30 EST between Monday and Friday (excluding Federal holidays) on the deadline date to: The U.S. Department of Health and Human Services, Administration for Children and Families, Division of Discretionary Grants, ACF Mail Center, 2nd Floor Aerospace Center, 901 D Street, SW., Washington, DC 20024, Attention: Lois Hodge.

An Applicant must provide an original application with all attachments signed by an authorized representative and two copies.

Electronic Submission: Please see section IV. 2 Content and Form of Application Submission, for guidelines and requirements when submitting applications electronically.

V. Application Review Information

The Paperwork Reduction Act of 1995 (Pub. L. 104-13)

Public reporting burden for this collection of information is estimated to average 50 hours per response, including the time for reviewing instructions, gathering and maintaining the data needed, and reviewing the collection information. The project description is approved under OMB Control Number 0970-0139 which expires 4/30/2007. An agency may not conduct or sponsor, and a person is not required to respond to, a collection of information unless it displays a currently valid OMB control number.

General Project Description: Applicants are required to submit a full project description and must prepare the project description statement in accordance with the following instructions.

Purpose

The project description provides a major means by which an application is evaluated and ranked to compete with other applications for available assistance. The project description should be concise and complete and should address the activity for which Federal funds are being requested. Supporting documents should be included where they can present information clearly and succinctly. In preparing your project description, all information requested through each specific evaluation criteria should be provided. Awarding offices use this and other information in making their funding recommendations. It is important, therefore, that this information be included in the application.

Introduction

Applicants required to submit a full project description shall prepare the project description statement in accordance with the following instructions and the specified evaluation criteria. The instructions give a broad overview of what your project description should include while the evaluation criteria expands and clarifies more program-specific information that is needed.

Project Summary/Abstract

Provide a summary of the project description (a page or less) with reference to the funding request.

Objectives and Need for Assistance

Clearly identify the physical, economic, social, financial, institutional, and/or other problem(s) requiring a solution. The need for assistance must be demonstrated and the principal and subordinate objectives of the project must be clearly stated; supporting documentation, such as letters of support and testimonials from concerned interests other than the applicant, may be included. Any relevant data based on planning studies should be included or referred to in the endnotes/footnotes. Incorporate demographic data and participant/beneficiary information, as needed. In developing the project description, the applicant may volunteer or be requested to provide information on the total range of projects currently being conducted and supported (or to be initiated), some of which may be outside the scope of the program announcement.

Approach

Outline a plan of action which describes the scope and detail of how the proposed work will be accomplished. Account for all functions or activities identified in the application. Cite factors which might accelerate or decelerate the work and state your reason for taking the proposed approach rather than others. Describe any unusual features of the project such as design or technological innovations, reductions in cost or time, or extraordinary social and community involvement.

Provide quantitative monthly or quarterly projections of the accomplishments to be achieved for each function or activity in such terms as the number of people to be served and the number of activities accomplished. When accomplishments cannot be quantified by activity or function, list them in chronological order to show the schedule of accomplishments and their target dates. If any data is to be collected, maintained, and/or disseminated, clearance may be required from the U.S. Office of Management and Budget (OMB). This clearance pertains to any “collection of information that is conducted or sponsored by ACF.”

List organizations, cooperating entities, consultants, or other key individuals who will work on the project along with a short description of the nature of their effort or contribution.

Evaluation

Provide a narrative addressing how the results of the project and the conduct of the project will be evaluated. In addressing the evaluation of results, state how you will determine the extent to which the project has achieved its stated objectives and the extent to which the accomplishment of objectives can be attributed to the project. Discuss the criteria to be used to evaluate results, and explain the methodology that will be used to determine if the needs identified and discussed are being met and if the project results and benefits are being achieved. With respect to the conduct of the project, define the procedures to be employed to determine whether the project is being conducted in a manner consistent with the work plan presented and discuss the impact of the project's various activities on the project's effectiveness.

Staff and Position Data

Provide a biographical sketch for each key person appointed and a job description for each vacant key position. A biographical sketch will also be required for new key staff as appointed.

Budget and Budget Justification

Provide line item detail and detailed calculations for each budget object class identified on the Budget Information form. Detailed calculations must include estimation methods, quantities, unit costs, and other similar quantitative detail sufficient for the calculation to be duplicated. The detailed budget must also include a breakout by the funding sources identified in Block 15 of the SF-424.

Provide a narrative budget justification that describes how the categorical costs are derived.

Discuss the necessity, reasonableness, and allocability of the proposed costs.

Personnel

Description: Costs of employee salaries and wages.

Justification: Identify the project director or principal investigator, if known. For each staff person, provide the title, time commitment to the project (in months), time commitment to the project (as a percentage or full-time equivalent), annual salary, grant salary, wage rates, etc. Do not include the costs of consultants or personnel costs of delegate agencies or of specific project(s) or businesses to be financed by the applicant.

Travel

Description: Costs of project-related travel by employees of the applicant organization (does not include costs of consultant travel).

Justification: For each trip, show the total number of traveler(s), travel destination, duration of trip, per diem, mileage allowances, if privately owned vehicles will be used, and other transportation costs and subsistence allowances. Travel costs for key staff to attend ACF sponsored workshops should be detailed in the budget.

1. Evaluation Criteria

Five criteria will be used to review and evaluate each application. Each criterion should be addressed in the project description section of the application. The point values indicate the maximum numerical weight possible for each criterion in the review process.

Approach (35 Points)

Using the following values for each required item in this criterion, points will be awarded according to the extent to which the application:

15 Points Outlines a sound, workable, and detailed plan of action, pertaining to the goals and objectives of the proposed project and the proposed approach.

5 Points Provides quantitative monthly or quarterly projections of the accomplishments to be achieved for each function or activity.

5 Points Describes innovations and/or unusual features of the proposed project.

5 Points Provides a rationale for taking this approach as opposed to other possibilities.

3 Points Lists organizations, cooperating entities, consultants, or other key individuals who will work on the project along with a short description of the nature of their effort or contribution.

2 Points Cites factors that might accelerate or decelerate the work.

Objectives and Need for Assistance (25 Points)

Using the following values for each required item in this criterion, points will be awarded according to the extent to which the application:

8 Points Identifies and demonstrates the need for assistance and the importance of addressing the problems in the proposed project.

8 Points States the principal and subordinate objectives for the proposed project and describes the conceptual framework for the project.

4 Points Adequately identifies the key State and Federal supports being examined.

3 Points Provides relevant data based on research and/or planning studies.

2 Points Provides supporting documentation and/or testimonies from concerned individuals and groups, other than the applicant.

Evaluation (25 Points)

Using the following values for each required item in this criterion, points will be awarded according to the extent to which the application:

10 Points Expected results and benefits are consistent with the proposed project's goals and objectives.

5 Points States the anticipated contributions of the proposed project to policy, practice, theory, the field, and/or research.

5 Points Describes the specific results/products that will be achieved and relevant information regarding information collection and evaluation.

5 Points Describes the evaluation methodology.

Personnel, Staff and Position Data (10 Points)

Using the following values for each required item in this criterion, points will be awarded according to the extent to which the application:

5 Points Identifies the background and experience of key staff members.

5 Points Identifies personnel who will be assigned to the project.

Budget and Budget Justification (5 Points)

Applicants are expected to present a budget with reasonable project costs, appropriately allocated across component areas, and sufficient to accomplish the objectives. The requested funds for the project must be fully justified and documented. Line item allocations and justification are required for both Federal and non-Federal funds. A letter of commitment for the project's non-Federal resources must be submitted with the application in order to be given credit in the review process. A fully explained non-Federal share budget must be prepared for each funding source.

For purposes of the outside review process, applicants may elect to summarize salary information on the copies of their application. All salary information must, however, appear on the signed original application for ACF.

Using the following values for each required item in this criterion, points will be awarded according to the extent to which the application:

2 Points Discusses and justifies the costs and reasonableness of the proposed project in view of the expected results and benefits.

2 Points Describes the fiscal controls and accounting procedures to be used.

1 Point Includes a fully explained non-Federal share budget and its source(s).

2. Review and Selection Process

Each application submitted under this program announcement will undergo a pre-review to determine that (1) the application was received by the closing date and submitted in accordance with the instructions in this announcement and (2) the applicant is eligible for funding. It is necessary that applicants state specifically which priority area they are applying for. If applications are found to be inappropriate for the funding announcement in which they are submitted, applicants will be contacted for verbal approval of redirection to a more appropriate priority area.

Applications which pass the initial ACF screening will be evaluated and rated by an independent review panel on the basis of specific evaluation criteria. The results of these reviews will assist the Commissioner and ADD program staff in considering competing applications. Reviewers' scores will weigh heavily in funding decisions but will not be the only factors considered. Applications generally will be considered in order of the average scores assigned by reviewers. However, highly ranked applications are not guaranteed funding because other factors are taken into consideration. These include, but are not limited to, the number of similar types of existing grants or projects funded with ADD funds in the last five years; comments of reviewers and government officials; staff evaluation and input; geographic distribution; previous program performance of applicants; compliance with grant terms under previous DHHS grants; audit reports; investigative reports; an applicant's progress in resolving any final audit disallowance on previous ADD or other Federal agency grants. ADD will consider the geographic distribution of funds among States and the relative proportion of funding among rural and urban areas. The evaluation criteria were designed to assess the quality of a proposed project, and to determine the likelihood of its success. The evaluation criteria are closely related and are considered as a whole in judging the overall quality of an application. Points are awarded only to applications which are responsive to the evaluation criteria within the context of this program announcement.

Priority Area II: Financial and Programmatic Trends in Services for People With Developmental Disabilities

1. Priority Area II Description

Priority Area II Background Information:

Purpose: The purpose of Priority Area II is to support investigations of and reports on the trends in public services accessed by people with developmental disabilities to support and promote their well-being.

Federal and State funds are a key financial resource for an array of services and supports for people with developmental disabilities. For example, many adults with developmental disabilities rely on public forms of assistance, such as Temporary Assistance for Needy Families and Supplemental Security Income, because social and physical barriers, low expectations from others, and societal stereotypes contribute to a lower sense of opportunity and lower attainment in education and employment.

States are facing significant financial strains, which is leading to cutbacks in public programs across the board. The aging of individuals with developmental disabilities combined with the increased longevity of this population is further complicating fiscal matters in the States. Education systems are struggling to meet the demands of school reform, resulting in cutbacks in programs. Increasingly, schools and early intervention programs are accessing Medicaid funds to cover the costs of special education services to children with disabilities. The waiver under Medicaid has become the primary program supporting long-term care services for persons with developmental disabilities.

To meet the intent of Priority Area II, the following are the minimum requirements for the project design:

Project Design and Methods: Applicants should identify the project design and methods for carrying out activities under this funding opportunity. At a minimum, applicants should outline, as appropriate:

• The research design (e.g., case study, longitudinal, State level policy analyses, descriptive) for describing services and measuring program impact;

• Indicators for measuring program impact;

• The necessary steps for collecting new data the project will generate and/or the current data the project will analyze;

• Data sources, including primary and secondary sources; and

• Quantitative and/or qualitative methods of analysis and plans for ensuring the reliability and validity of the analysis;

• Plans for a rapid response system through which pressing information needs are addressed in a timely fashion; and

• A description of the Project commitment to work with ADD under the cooperative agreement.

Topics: Applicants should address topics that are timely and responsive to the information needs of multiple audiences concerned about services for people with developmental disabilities. In discussing the project approach, applicants should indicate what topics will be addressed in the analysis, which could include:

• An understanding of developmental disabilities services issues from multiple perspectives, such as State agencies, community service providers, consumers of services, etc.;

• Extent to which the goals of the system promote community inclusion;

• States policies or practices that support access to services that support persons with developmental disabilities;

• Participation rates in TANF and other State welfare programs;

• Trends and shifts in current services under current fiscal climate;

• Coordination across other agencies or initiatives, such as one-stop entities;

• Efficacy of outreach methods; and

• Promising practices.

Any topic discussed in the application should include reference to ways in which impact will be included in the analysis.

Identification of Services: Applicants should identify the existing State and Federal laws under review that impact people with developmental disabilities. At a minimum, the applicant should provide details of the following:

• The laws and policies governing services for people with developmental disabilities the project proposes to examine;

• Funding streams for services and supports to people with developmental disabilities and their families; and

• Eligibility criteria and other relevant program requirements.

Applicants should indicate any programs operated in the private sector that will be a part of the analysis.

Key Personnel: Each grantee should ensure that key project personnel have direct experience with and/or knowledge in conducting research using a variety of approaches such as using large, national databases.

Civil Rights: Each grantee must comply with the Americans with Disabilities Act, where applicable, and Section 504 of the Rehabilitation Act of 1973 as amended by the Rehabilitation Act Amendments of 1998.

Communication and Dissemination: Each applicant must provide a detailed description of plans for regularly communicating and disseminating information to the public through e-mail and other effective, affordable, and accessible forms of electronic communication, which may include monthly newsletters, the publication of datasets on Web sites or regularly scheduled research briefs and fact sheets on topical areas. Applicants should discuss how information on the Internet will be compliant with Section 508.

Annual Report: The applicant must describe how they will meet requirements of the ADD Performance System through the development of an annual report. This narrative and numerical report must describe on a yearly basis changes (both positive and negative) for people with developmental disabilities. Specifically, the applicants must describe how they will report on the percentage of individuals with developmental disabilities who are more independent, self-sufficient, and integrated into the community as a result of public services. The report should provide national perspectives and, as appropriate, state-by-state analyses. The annual report will be due by the end of the project fiscal year and must be made available to the public.

II. Priority Area II Award Information

Funding Instrument Type: Cooperative Agreement.

Description of Federal Involvement with Cooperative Agreement: Please see “I. Funding Opportunity Description, General Description, Terms and Conditions of the Cooperative Agreement” for a complete description of the cooperative agreement.

Anticipated Total Priority Area Funding: $300,000.

Anticipated Number of Awards: 1 per budget period.

Ceiling on Amount of Individual Annual Awards: $300,000 per budget period.

Floor of Individual Award Amounts: None.

Average Projected Award Amount: $300,000 budget period.

Length of Project: This announcement is inviting applications for project periods up to three years. Awards, however, will be made on a competitive basis, for a one-year budget period. Applications for continuation grants funded under these awards beyond the one-year budget period but within the three year project period will be entertained in subsequent years on a noncompetitive basis, subject to availability of funds, satisfactory progress of the grantee and a determination that continued funding would be in the best interest of the Government.

III. Priority Area II Eligibility Information

1. Eligible Applicants

State Governments, County Governments, City or Township Governments, State Controlled Institutions of Higher Education, Native American Tribal Governments (Federally Recognized), Public Housing Authorities/Indian Housing Authorities, Non-profits having 501 (c)(3) status with the IRS, other than institutions of higher education, Non-profits that do not have 501 (c)(3) status with the IRS, other than institutions of higher education, and private Institutions of Higher Learning.

Additional Information on Eligibility:

• Non-profit organizations must demonstrate proof of non-profit status. Proof of non-profit status is any one of the following:

a. A reference to the applicant organization's listing in the Internal Revenue Service's (IRS) most recent list of tax-exempt organizations described in the IRS code

b. copy of a currently valid IRS tax exemption certificate

c. A statement from a State taxing body, State Attorney General, or other appropriate State official certifying that the applicant organization has a non-profit status and that none of the net earnings accrue to any private shareholders or individuals

d. A certified copy of the organization's certificate of incorporation or similar document that clearly establishes non-profit status; or

e. Any of the items in the subparagraphs immediately above for a State or national parent and a statement signed by the parent organization that the applicant organization is a local non-profit affiliate.

Applicants are cautioned that the ceiling for individual awards is $300,000. An application exceeding the $300,000 threshold will be considered non-responsive and returned without review.

2. Cost Sharing or Matching

Grantees must provide at least 25 percent of the total approved cost of the project. The total approved cost of the project is the sum of the ACF share and the non-federal share. The non-federal share may be met by cash or in-kind contributions, although applicants are encouraged to meet their match requirements through cash contributions. For example, in order to meet the match requirements, a project with a total approved cost of $400,000, requesting $300,000 in ACF funds, must provide a non-federal share of at least 100,000 (25% of total approved project cost of $400,000). Grantees will be held accountable for commitments of non-federal resources even if over the amount of the required match. Failure to provide the amount will result in disallowance of Federal funds.

Applications that fail to include the required amount of cost-share will be considered non-responsive and returned without review.

3. Other (if Applicable)

On June 27, 2003, the Office of Management and Budget published in the Federal Register a new Federal policy applicable to all Federal grant applicants. The policy requires Federal grant applicants to provide a Dun and Bradstreet Data Universal Numbering System (DUNS) number when applying for Federal grants or cooperative agreements on or after October 1, 2003. The DUNS number will be required whether an applicant is submitting a paper application or using the government-wide electronic portal (http://www.Grants.gov). A DUNS number will be required for every application for a new award or renewal/continuation of an award, including applications or plans under formula, entitlement and block grant programs, submitted on or after October 1, 2003.

Please ensure that your organization has a DUNS number. You may acquire a DUNS number at no cost by calling the dedicated toll-free DUNS number request line at 1-866-705-5711 or you may request a number on-line at http://www.dnb.com.

Applicants are cautioned that the ceiling for individual awards is $300,000. Applications exceeding the $300,000 threshold will be considered non-responsive and will not be eligible for funding under this announcement.

Applications that fail to include the required amount of cost-share will be considered non-responsive and returned without review.

IV. Application and Submission Information

1. Address To Request an Application Package

Jennifer Johnson, Program Specialist, Administration on Developmental Disabilities, Office of Operations and Discretionary Grants, Mail Stop: HHH 405-D, 370 L'Enfant Promenade, SW., Washington, DC 20447, Phone: 202-690-5982, E-mail: jjohnson1@acf.hhs.gov.

2. Content and Form of Application Submission

You may submit your application to us in either electronic or paper format. To submit an application electronically, please use the http://www.Grants.gov apply site. If you use Grants.gov, you will be able to download a copy of the application package, complete it off-line, and then upload and submit the application via the Grants.gov site. You may not e-mail an electronic copy of a grant application to us.

Please note the following if you plan to submit your application electronically via Grants.gov:

• Electronic submission is voluntary.

• When you enter the Grants.gov site, you will find information about submitting an application electronically through the site, as well as the hours of operation. We strongly recommend that you do not wait until the application deadline date to begin the application process through Grants.gov.

• To use Grants.gov, you, as the applicant, must have a DUNS Number and register in the Central Contractor Registry (CCR). You should allow a minimum of five days to complete the CCR registration.

• You will not receive additional point value because you submit a grant application in electronic format, nor will we penalize you if you submit an application in paper format.

• You may submit all documents electronically, including all information typically included on the SF 424 and all necessary assurances and certifications.

• Your application must comply with any page limitation requirements described in this Program Announcement and meet the application deadline.

• After you electronically submit your application, you will receive an automatic acknowledgement from Grants.gov that contains a Grants.gov tracking number. The Administration for Children and Families will retrieve your application from Grants.gov.

• We may request that you provide original signatures on forms at a later date.

• You may access the electronic application for this program on http://www.Grants.gov.

• You must search for the downloadable application package by the CFDA number.

Electronic Address where applications will be accepted: http://www.Grants.gov.

The required application package will include the following using the format described:

Format

The project description must not exceed 50 double-spaced, numbered, typed pages including an abstract and a table of contents. Any application which exceeds the page limit requirement will have the additional pages removed from the application prior to the review. The type must not be smaller than 12 pitch or a point size of 12.

Project Description

Please see Section V. 1. Criteria, for instructions on preparing the project summary/abstract and the full project description.

Budget

The applicant shall develop a full budget, including a completed SF 424A, “Budget Information—Non-Construction Programs,” a detailed budget breakdown by object class categories listed in the SF 424A, Section B, and a narrative budget justification, for a twelve-month budget period. The SF 424 forms are provided below in this announcement. The applicant must include the twelve-month Federal budget under Column (1), the twelve-month non-Federal budget under Column (2), and the total twelve-month budget under Column (5) of the SF 424A. The applicant shall use the three-column approach when preparing the detailed budget breakdown. For the remaining two years of the requested project period, the applicant must complete SF 424A, Section E, indicating the total forecasted budget for each year. The applicant must also provide a lump sum figure for non-Federal contributions for the second through third years of the project on SF 424A, Section C. Applicants have the option of omitting from the application copies (not the original) specific salary rates or amounts for individuals specified in the application budget. If the procurement policy of an applicant's institution includes an equipment definition other than the current Federal definition, a copy of the institution's current definition should be included in the application. Please see Section V.1 Criteria for additional guidance.

Appendix

The Appendix must not exceed 40 pages. Supplementary material, intended to provide examples of activities, may be included in the Appendix for reviewers but shall adhere to the page limit requirement. The Appendix must be included with the original and the two copies of the application.

Checklist for a Complete Application

The checklist below is for your use to ensure that your application package has been properly prepared.

—One original, signed and dated application, plus two copies;

—Application is from an organization that is eligible under the eligibility requirements, defined in the Priority Area description; and

—Application length does not exceed 50 pages

—Application for Federal Assistance (SF 424, REV 4-88);

—A completed SPOC certification with the date of SPOC contact entered in line 16, page 1 of the SF 424 if applicable;

—Budget Information—Non-Construction Programs (SF 424A, REV 4-88);

—Budget justification for Section B—Budget Categories;

—Table of Contents;

—Letter from the Internal Revenue Service, etc. to prove non-profit status, if necessary;

—Copy of the applicant's approved indirect cost rate agreement, if appropriate (when charging indirect costs to Federal funds or when using indirect costs as a matching share);

—Project Description;

—Letter(s) of commitment verifying non-Federal cost share;

—Any appendices/attachments;

—Assurances—Non-Construction Programs (Standard Form 424B, REV 4-88);

—Certification Regarding Lobbying;

—Certification of Protection of Human Subjects, if necessary; and

—Certification of the Pro Children Act of 1994, signature on the application represents certification.

• Assurances/Certifications

Applicants are required to submit a SF 424B, Assurances— Non-Construction Programs and the Certification Regarding Lobbying. Applicants must provide a certification concerning lobbying. Prior to receiving an award in excess of $100,000, applicants should furnish an executed copy of the lobbying certification (approved by the Office of Management and Budget under control number 0348-0046). Applicants must sign and return the certification with their application.

Applicant must also understand that they will be held accountable for the smoking prohibition included within Pub. L. 103-227, Part C Environmental Tobacco Smoke (also known as the Pro-Children's Act of 1994). By signing and submitting the application, applicants are providing the certification and need not mail back the certification with the application.

In addition, applicants are required under Section 162(c)(3) of the Act to provide assurances that the human rights of all individuals with developmental disabilities (especially those individuals without familial protection) who will receive services under projects assisted under Part E will be protected consistent with section 110 (relating to the rights of individuals with developmental disabilities). Each application must include a statement providing this assurance.

For research projects in which human subjects may be at risk, a Protection of Human Subjects Assurance may be required. If there is a question regarding the applicability of this assurance, contact the Office for Research Risks of the National Institutes of Health at (301) 496-7041.

Non-profit applicants must demonstrate proof of their non-profit status and this proof must be included in their application. Proof of non-profit status is any one of the following:

a. A reference to the applicant organization's listing in the Internal Revenue Service's (IRS) most recent list of tax-exempt organizations described in the IRS code;

b. A copy of a currently valid IRS tax exemption certificate;

c. A statement from a State taxing body, State Attorney General, or other appropriate State official certifying that the applicant organization has a non-profit status and that none of the net earnings accrue to any private shareholders or individuals;

d. A certified copy of the organization's certificate of incorporation or similar document that clearly establishes non-profit status; or

e. Any of the items in the subparagraphs immediately above for a State or national parent and a statement signed by the parent organization that the applicant organization is a local non-profit affiliate.

3. Submission Dates and Times

The closing time and date for receipt of applications is 4:30 p.m. (Eastern Time Zone) on August 23, 2004. Mailed or hand carried applications received after 4:30 p.m. on the closing date will be classified as late.

Deadline: Mailed applications shall be considered as meeting an announced deadline if they are received on or before the deadline time and date at the following address: U.S. Department of Health and Human Services, Administration for Children and Families, Office of Grants Management, 370 L'Enfant Promenade SW, 8th Floor, Washington, DC 20447, Attention: Lois Hodge.

Applicants are responsible for mailing applications well in advance, when using all mail services, to ensure that the applications are received on or before the deadline time and date. ACF will not be sending applicants notifications that their applications were received under this Program Announcement by the deadline.

Applications hand carried by applicants, applicant couriers, other representatives of the applicant, or by overnight/express mail couriers shall be considered as meeting an announced deadline if they are received on or before the deadline date, between the hours of 8 a.m. and 4:30 p.m., EST, at the following address: U.S. Department of Health and Human Services, Administration for Children and Families, Office of Grants Management, 370 L'Enfant Promenade SW, 8th Floor, Washington, DC 20447, Attention: Lois Hodge.

Late applications: Applications which do not meet the criteria above are considered late applications. ACF shall notify each late applicant that its application will not be considered in the current competition.

Extension of deadlines: ACF may extend application deadlines when circumstances such as acts of God (floods, hurricanes, etc.) occur, or when there are widespread disruptions of mail service. Determinations to extend or waive deadline requirements rest with the Chief Grants Management Officer.

Required Forms:

What to submit | Required content | Required form or format | When to submit
SF424, SF424a, SF424B | Per required form | May be found at http://www.acf.hhs.gov/program/ofs/forms.htm | August 23, 2004.
Project Summary/Abstract | Summary of application request | One page limit | August 23, 2004.
Project Description | Responsiveness to evaluation criteria | Format described in Review and Selection section. Limit 60 pages. Size 12 font, ½″ margins | August 23, 2004.
Certification Regarding Lobbying | Per required form | May be found at http://www.acf.hhs.gov/program/ofs/forms.htm | August 23, 2004.
Disclosure of Lobbying Activities (SF-LLL) | Per required form | May be found at http://www.acf.hhs.gov/program/ofs/forms.htm | August 23, 2004.
Environmental Tobacco Smoke Certification | Per required form | May be found at http://www.acf.hhs.gov/program/ofs/forms.htm | August 23, 2004.

Additional Forms:

Private-non-profit organizations are encouraged to submit with their applications the additional survey located under “Grant Related Documents and Forms” titled “Survey for Private, Non-Profit Grant Applicants”.

What to submit | Required content | Required form or format | When to submit
Survey for Private, Non-Profit Grant Applicants | Per required form | May be found on http://www.acf.hhs.gov/programs/ofs/form.htm | By application due date.

4. Intergovernmental Review

State Single Point of Contact (SPOC), Notification Under Executive Order 12372

This program is covered under Executive Order (E.O.) 12372, “Intergovernmental Review of Federal Programs”, and 45 CFR Part 100, “Intergovernmental Review of Department of Health and Human Services Programs and Activities”. Under the Order, States may design their own processes for reviewing and commenting on proposed Federal assistance under covered programs.

As of January, 2003, of the most recent SPOC list, the following jurisdictions have elected not to participate in the Executive Order process: Alabama, Alaska, Colorado, Connecticut, Hawaii, Idaho, Kansas, Louisiana, Massachusetts, Minnesota, Montana, Nebraska, New Jersey, New York, Ohio, Oklahoma, Oregon, Palau, Pennsylvania, South Dakota, Tennessee, Vermont, Virginia and Washington. Applicants from these jurisdictions or for projects administered by federally-recognized Indian Tribes need take no action in regard to E.O. 12372.

Although the jurisdictions listed above no longer participate in the process, entities which have met the eligibility requirements of the program are still eligible to apply for a grant even if a State, Territory, Commonwealth, etc. does not have a SPOC.

All remaining jurisdictions participate in the Executive Order process and have established SPOCs. Applicants from participating jurisdictions should contact their SPOCs as soon as possible to alert them of the prospective applications and receive instructions. Applicants must submit any required material to the SPOCs as soon as possible so that the program office can obtain and review SPOC comments as part of the award process. The applicant must submit all required materials, if any, to the SPOC and indicate the date of this submittal (or the date of contact if no submittal is required) on the Standard Form 424, item 16a. Under 45 CFR 100.8(a)(2), a SPOC has 60 days from the application deadline to comment on proposed new or competing continuation awards.

SPOCs are encouraged to eliminate the submission of routine endorsements as official recommendations. Additionally, SPOCs are requested to clearly differentiate between mere advisory comments and those official State process recommendations which may trigger the “accommodate or explain” rule.

When comments are submitted directly to ACF, they should be addressed to: Department of Health and Human Services, Administration for Children and Families, Division of Discretionary Grants and Audit Resolution, 370 L'Enfant Promenade, S.W., Mail Stop 6C-462, Washington, DC 20447.

The official list, including addresses, of the jurisdictions elected to participate in E.O. 12372 can be found at: http://www.whitehouse.gov/omb/grants/spoc.html.

5. Funding Restrictions

Non-Allowable Costs: Reimbursement of pre-award costs, costs for foreign travel, or costs for construction activities are not allowable charges to this Federal grant program.

Indirect Costs: In order to charge Indirect Costs to the Federal Funds and/or use Indirect Costs as a matching share, the applicant must have an approved indirect costs agreement for the period in which the Federal funds would be awarded.

6. Other Submission Requirements

Submission by Mail: An Applicant must provide an original application with all attachments, signed by an authorized representative and two copies. The Application must be received at the address below by 4:30 PM Eastern Standard Time on or before the closing date. Applications should be mailed to: The U.S. Department of Health and Human Services, ACF Office of Grants Management, 370 L'Enfant Promenade SW. 8th Floor, Washington, DC 20447, Attention: Lois Hodge.

Hand-Deliver: Applicants choosing to hand-deliver applications by either themselves or by an agent, must have the application delivered by 4:30 EST between Monday and Friday (excluding Federal holidays) on the deadline date to: The U.S. Department of Health and Human Services, Administration for Children and Families, Division of Discretionary Grants, ACF Mail Center, 2nd Floor Aerospace Center, 901 D Street, SW., Washington, DC 20024, Attention: Lois Hodge.

An Applicant must provide an original application with all attachments signed by an authorized representative and two copies.

Electronic Submission: Please see section IV. 2 Content and Form of Application Submission, for guidelines and requirements when submitting applications electronically.

V. Application Review Information

1. Evaluation Criteria

Please see Generic and Specific Evaluation criteria for Priority Area #1, V.1, “Application Review Information, Evaluation Criteria” for crafting your response for the Project Narrative.

2. Review and Selection Process

Please see Priority Area#1, V.2, “Application Review Information, Review and Selection Process,” for information on the review and selection process for this priority area.

Priority Area III: Employment Status of People With Developmental Disabilities

I. Priority Area III Description

Priority Area III Background Information:

Purpose: The purpose of Priority Area III is to support investigations that examine the employment status of people with developmental disabilities and related outcomes as a result of programs that support their employment.

Individuals with developmental disabilities are significantly less likely to be employed than are individuals without developmental disabilities. The outlook is particularly bleak for individuals with cognitive impairments and significant disabilities as their rate of employment rate is lower than those with milder impairments.

The persistently poor employment and postsecondary education participation rates for individuals with developmental disabilities has led to an increased emphasis on improving the secondary school to post-school transition process for youth with developmental disabilities. This need is heightened by new demands in the work environment for advanced skills of employees.

Information about the effects of efforts to increase the employability of people with developmental disabilities is necessary to assess the impact of such programs. These types of investigations should examine employment status, the retention rate, the kinds of positions held in relation to their disabling condition, and comparisons of wages to the general population.

To meet with the intent of Priority Area III, the following are the minimum requirements for the project design:

Project Design and Methods: Applicants should identify the project design and methods for carrying out activities under this funding opportunity. At a minimum, applicants should outline, as appropriate:

• The research design (e.g., case study, longitudinal, State level policy analyses, descriptive) for describing services and measuring program impact;

• Indicators for measuring program impact;

• The necessary steps for collecting new data the project will generate and/or the current data the project will analyze;

• Data sources, including primary and secondary sources; and

• Quantitative and/or qualitative methods of analysis and plans for ensuring the reliability and validity of the analysis;

• Plans for a rapid response system whereby information needs are addressed in a timely fashion; and

• A description of the Project commitment to work with ADD under the cooperative agreement.

Topics: Applicants should address topics that are timely and responsive to the information needs of multiple audiences concerned about services for people with developmental disabilities. In discussing the project approach, applicants should indicate what topics will be addressed in the analysis, which could include:

• An understanding of employment issues from multiple perspectives, such as State agencies, community service providers, consumers of services, etc.;

• Extent to which the goals of the system promote community inclusion;

• States policies or practices that support access to employment services as a key outcome for persons with developmental disabilities;

• An analysis of the ways in which people with developmental disabilities obtained employment and the extent to which they are maintained;

• The relationship between post-secondary training opportunities and employment outcomes;

• Coordination across other agencies or initiatives, such as one-stop entities;

• Efficacy of outreach methods; and

• Promising practices.

Any topic discussed in the application should include reference to ways in which impact will be a part of the analysis.

Identification of Services: Applicants should identify the existing State and Federal laws under review that impact people with developmental disabilities. At a minimum, the applicant should provide details of the following:

• The laws and policies governing services for people with developmental disabilities the project proposes to examine;

• Funding streams for services and supports to people with developmental disabilities and their families; and

• Eligibility criteria and other relevant program requirements.

Applicants should indicate any programs operated in the private sector that will be included in the analysis.

Key Personnel: Each grantee should ensure that key project personnel have direct experience with and/or knowledge in conducting research using a variety of approaches such as using large, national databases.

Civil Rights: Each grantee must comply with the Americans with Disabilities Act, where applicable, and Section 504 of the Rehabilitation Act of 1973 as amended by the Rehabilitation Act amendments of 1998.

Communication and Dissemination: Each applicant must provide a detailed description of plans for regularly communicating and disseminating information to the public through e-mail and other effective, affordable, and accessible forms of electronic communication, which may include the publication of monthly newsletters, datasets on websites or regularly scheduled research briefs and fact sheets on topical areas. Applicants should discuss how information on the internet will be compliant with Section 508.

Annual Report: The applicant must describe how they will meet requirements of the ADD Performance System through the development of an annual report. This narrative and numerical report must describe on a yearly basis changes in employment for people with developmental disabilities. Specifically, the applicants must describe how they will report on the percentage of individuals with developmental disabilities who are more independent, self-sufficient, and integrated into the community as a result of employment services. The report should provide national perspectives and, as appropriate, state-by-state analyses. The annual report will be due by the end of the project fiscal year and must be made available to the public.

II. Priority Area III Award Information

Funding Instrument Type: Cooperative Agreement.

Description of Federal Involvement with Cooperative Agreement: Please see “I. Funding Opportunity Description, General Description, Terms and Conditions of the Cooperative Agreement” for a complete description of the cooperative agreement.

Anticipated Total Priority Area Funding: $300,000.

Anticipated Number of Awards: 1 per budget period.

Ceiling on Amount of Individual Annual Awards: $300,000 per budget period.

Floor of Individual Award Amounts: None.

Average Projected Award Amount: $300,000 per budget period.

Length of Project: This announcement is inviting applications for project periods up to three years. Awards, however, will be made on a competitive basis, for a one-year budget period. Applications for continuation grants funded under these awards beyond the one-year budget period but within the three year project period will be entertained in subsequent years on a noncompetitive basis, subject to availability of funds, satisfactory progress of the grantee and a determination that continued funding would be in the best interest of the Government.

III. Priority Area III Eligibility Information

1. Eligible Applicants

State Governments, County Governments, City or Township Governments, State Controlled Institutions of Higher Education, Native American Tribal Governments (Federally Recognized), Public Housing Authorities/Indian Housing Authorities, Non-profits having 501 (c) (3) status with the IRS, other than institutions of higher education, Non-profits that do not have 501 (c) (3) status with the IRS, other than institutions of higher education, and private institutions of higher learning

Additional Information on Eligibility:

• Non-profit organizations must demonstrate proof of non-profit status. Proof of non-profit status is any one of the following:

a. A reference to the applicant organization's listing in the Internal Revenue Service's (IRS) most recent list of tax-exempt organizations described in the IRS code;

b. copy of a currently valid IRS tax exemption certificate

c. A statement from a State taxing body, State Attorney General, or other appropriate State official certifying that the applicant organization has a non-profit status and that none of the net earnings accrue to any private shareholders or individuals

d. A certified copy of the organization's certificate of incorporation or similar document that clearly establishes non-profit status; or

e. Any of the items in the subparagraphs immediately above for a State or national parent and a statement signed by the parent organization that the applicant organization is a local non-profit affiliate.

Applicants are cautioned that the ceiling for individual awards is $300,000. An application exceeding the $300,000 threshold will be considered non-responsive and returned without review.

2. Cost Sharing or Matching

Grantees must provide at least 25 percent of the total approved cost of the project. The total approved cost of the project is the sum of the ACF share and the non-federal share. The non-federal share may be met by cash or in-kind contributions, although applicants are encouraged to meet their match requirements through cash contributions. For example, in order to meet the match requirements, a project with a total approved cost of $400,000, requesting $300,000 in ACF funds, must provide a non-federal share of at least 100,000 (25% of total approved project cost of $400,000). Grantees will be held accountable for commitments of non-federal resources even if over the amount of the required match. Failure to provide the amount will result in disallowance of Federal funds.

Applications that fail to include the required amount of cost-share will be considered non-responsive and returned without review.

3. Other (if Applicable)

On June 27, 2003, the Office of Management and Budget published in the Federal Register a new Federal policy applicable to all Federal grant applicants. The policy requires Federal grant applicants to provide a Dun and Bradstreet Data Universal Numbering System (DUNS) number when applying for Federal grants or cooperative agreements on or after October 1, 2003. The DUNS number will be required whether an applicant is submitting a paper application or using the government-wide electronic portal (http://www.Grants.gov). A DUNS number will be required for every application for a new award or renewal/continuation of an award, including applications or plans under formula, entitlement and block grant programs, submitted on or after October 1, 2003.

Please ensure that your organization has a DUNS number. You may acquire a DUNS number at no cost by calling the dedicated toll-free DUNS number request line at 1-866-705-5711 or you may request a number on-line at http://www.dnb.com.

Applicants are cautioned that the ceiling for individual awards is $300,000. Applications exceeding the $300,000 threshold will be considered non-responsive and will not be eligible for funding under this announcement.

Applications that fail to include the required amount of cost-share will be considered non-responsive and returned without review.

IV. Application and Submission Information

1. Address To Request an Application Package

Jennifer Johnson, Program Specialist, Administration on Developmental Disabilities, Office of Operations and Discretionary Grants, Mail Stop: HHH 405-D, 370 L'Enfant Promenade, SW., Washington, DC 20447, Phone: 202-690-5982, E-mail: jjohnson1@acf.hhs.gov.

2. Content and Form of Application Submission

You may submit your application to us in either electronic or paper format. To submit an application electronically, please use the http://www.Grants.gov apply site. If you use Grants.gov, you will be able to download a copy of the application package, complete it off-line, and then upload and submit the application via the Grants.gov site. You may not e-mail an electronic copy of a grant application to us.

Please note the following if you plan to submit your application electronically via Grants.gov:

• Electronic submission is voluntary.

• When you enter the Grants.gov site, you will find information about submitting an application electronically through the site, as well as the hours of operation. We strongly recommend that you do not wait until the application deadline date to begin the application process through Grants.gov.

• To use Grants.gov, you, as the applicant, must have a DUNS Number and register in the Central Contractor Registry (CCR). You should allow a minimum of five days to complete the CCR registration.

• You will not receive additional point value because you submit a grant application in electronic format, nor will we penalize you if you submit an application in paper format.

• You may submit all documents electronically, including all information typically included on the SF 424 and all necessary assurances and certifications.

• Your application must comply with any page limitation requirements described in this Program Announcement and meet the application deadline.

• After you electronically submit your application, you will receive an automatic acknowledgement from Grants.gov that contains a Grants.gov tracking number. The Administration for Children and Families will retrieve your application from Grants.gov.

• We may request that you provide original signatures on forms at a later date.

• You may access the electronic application for this program on http://www.Grants.gov.

• You must search for the downloadable application package by the CFDA number.

Electronic Address where applications will be accepted: http://www.Grants.gov.

The required application package will include the following using the format described:

Format

The project description must not exceed 50 double-spaced, numbered, typed pages including an abstract and a table of contents. Any application which exceeds the page limit requirement will have the additional pages removed from the application prior to the review. The type must not be smaller than 12 pitch or a point size of 12.

Project Description

Please see Section V. 1. Criteria, for instructions on preparing the project summary/abstract and the full project description.

Budget

The applicant shall develop a full budget, including a completed SF 424A, “Budget Information—Non-Construction Programs,” a detailed budget breakdown by object class categories listed in the SF 424A, Section B, and a narrative budget justification, for a twelve-month budget period. The SF 424 forms are provided below in this announcement. The applicant must include the twelve-month Federal budget under Column (1), the twelve-month non-Federal budget under Column (2), and the total twelve-month budget under Column (5) of the SF 424A. The applicant shall use the three-column approach when preparing the detailed budget breakdown. For the remaining two years of the requested project period, the applicant must complete SF 424A, Section E, indicating the total forecasted budget for each year. The applicant must also provide a lump sum figure for non-Federal contributions for the second through third years of the project on SF 424A, Section C. Applicants have the option of omitting from the application copies (not the original) specific salary rates or amounts for individuals specified in the application budget. If the procurement policy of an applicant's institution includes an equipment definition other than the current Federal definition, a copy of the institution's current definition should be included in the application. Please see Section V.1 Criteria for additional guidance.

Appendix

The Appendix must not exceed 40 pages. Supplementary material, intended to provide examples of activities, may be included in the Appendix for reviewers but shall adhere to the page limit requirement. The Appendix must be included with the original and the two copies of the application.

Checklist for a Complete Application

The checklist below is for your use to ensure that your application package has been properly prepared.

—One original, signed and dated application, plus two copies;

—Application is from an organization that is eligible under the eligibility requirements, defined in the Priority Area description; and

—Application length does not exceed 50 pages

—Application for Federal Assistance (SF 424, REV 4-88);

—A completed SPOC certification with the date of SPOC contact entered in line 16, page 1 of the SF 424 if applicable;

—Budget Information—Non-Construction Programs (SF 424A, REV 4-88);

—Budget justification for Section B—Budget Categories;

—Table of Contents;

—Letter from the Internal Revenue Service, etc. to prove non-profit status, if necessary;

—Copy of the applicant's approved indirect cost rate agreement, if appropriate; (when charging indirect costs to Federal funds or when using indirect costs as a matching share);

—Project Description;

—Letter(s) of commitment verifying non-Federal cost share

—Any appendices/attachments;

—Assurances—Non-Construction Programs (Standard Form 424B, REV 4-88);

—Certification Regarding Lobbying;

—Certification of Protection of Human Subjects, if necessary; and

—Certification of the Pro Children Act of 1994, signature on the application represents certification.

• Assurances/Certifications

Applicants are required to submit a SF 424B, Assurances—Non-Construction Programs and the Certification Regarding Lobbying. Applicants must provide a certification concerning lobbying. Prior to receiving an award in excess of $100,000, applicants should furnish an executed copy of the lobbying certification (approved by the Office of Management and Budget under control number 0348-0046). Applicants must sign and return the certification with their application.

Applicant must also understand that they will be held accountable for the smoking prohibition included within Pub. L. 103-227, Part C Environmental Tobacco Smoke (also known as the Pro-Children's Act of 1994). By signing and submitting the application, applicants are providing the certification and need not mail back the certification with the application.

In addition, applicants are required under Section 162(c)(3) of the Act to provide assurances that the human rights of all individuals with developmental disabilities (especially those individuals without familial protection) who will receive services under projects assisted under Part E will be protected consistent with section 110 (relating to the rights of individuals with developmental disabilities). Each application must include a statement providing this assurance.

For research projects in which human subjects may be at risk, a Protection of Human Subjects Assurance may be required. If there is a question regarding the applicability of this assurance, contact the Office for Research Risks of the National Institutes of Health at (301) 496-7041.

Non-profit applicants must demonstrate proof of their non-profit status and this proof must be included in their application. Proof of non-profit status is any one of the following:

a. A reference to the applicant organization's listing in the Internal Revenue Service's (IRS) most recent list of tax-exempt organizations described in the IRS code;

b. A copy of a currently valid IRS tax exemption certificate;

c. A statement from a State taxing body, State Attorney General, or other appropriate State official certifying that the applicant organization has a non-profit status and that none of the net earnings accrue to any private shareholders or individuals;

d. A certified copy of the organization's certificate of incorporation or similar document that clearly establishes non-profit status; or

e. Any of the items in the subparagraphs immediately above for a State or national parent and a statement signed by the parent organization that the applicant organization is a local non-profit affiliate.

3. Submission Dates and Times

The closing time and date for receipt of applications is 4:30 p.m. (Eastern Time Zone) on August 23, 2004. Mailed or hand carried applications received after 4:30 p.m. on the closing date will be classified as late.

Deadline: Mailed applications shall be considered as meeting an announced deadline if they are received on or before the deadline time and date at the following address: U.S. Department of Health and Human Services, Administration for Children and Families, Office of Grants Management, 370 L'Enfant Promenade SW., 8th Floor, Washington, DC 20447, Attention: Lois Hodge.

Applicants are responsible for mailing applications well in advance, when using all mail services, to ensure that the applications are received on or before the deadline time and date. ACF will not be sending applicants notifications that their applications were received under this Program Announcement by the deadline.

Applications hand carried by applicants, applicant couriers, other representatives of the applicant, or by overnight/express mail couriers shall be considered as meeting an announced deadline if they are received on or before the deadline date, between the hours of 8 a.m. and 4:30 p.m., EST, at the following address: U.S. Department of Health and Human Services, Administration for Children and Families, Office of Grants Management 370 L'Enfant Promenade SW., 8th Floor, Washington, DC 20447, Attention: Lois Hodge.

Late applications: Applications which do not meet the criteria above are considered late applications. ACF shall notify each late applicant that its application will not be considered in the current competition.

Extension of deadlines: ACF may extend application deadlines when circumstances such as acts of God (floods, hurricanes, etc.) occur, or when there are widespread disruptions of mail service. Determinations to extend or waive deadline requirements rest with the Chief Grants Management Officer.

Required Forms:

What to submit | Required content | Required form or format | When to submit
SF424, SF424a, SF424B | Per required form | May be found at www.acf.hhs.gov/program/ofs/forms.htm | August 23, 2004.
Project Summary/Abstract | Summary of application request | One page limit | August 23, 2004.
Project Description | Responsiveness to evaluation criteria | Format described in Review and Selection section. Limit 60 pages. Size 12 font, ½″ margins. | August 23, 2004.
Certification Regarding Lobbying | Per required form | May be found at www.acf.hhs.gov/program/ofs/forms.htm | August 23, 2004.
Disclosure of Lobbying Activities (SF-LLL) | Per required form | May be found at www.acf.hhs.gov/program/ofs/forms.htm | August 23, 2004.
Environmental Tobacco Smoke Certification | Per required form | May be found at www.acf.hhs.gov/program/ofs/forms.htm | August 23, 2004.

Additional Forms:

Private-non-profit organizations are encouraged to submit with their applications the additional survey located under “Grant Related Documents and Forms” titled “Survey for Private, Non-Profit Grant Applicants.”

What to submit | Required content | Required form or format | When to submit
Survey for Private, Non-Profit Grant Applicants | Per required form | May be found on http://www.acf.hhs.gov/programs/ofs/form.htm | By application due date.

4. Intergovernmental Review

State Single Point of Contact (SPOC), Notification Under Executive Order 12372

This program is covered under Executive Order (E.O.) 12372, “Intergovernmental Review of Federal Programs”, and 45 CFR Part 100, “Intergovernmental Review of Department of Health and Human Services Programs and Activities”. Under the Order, States may design their own processes for reviewing and commenting on proposed Federal assistance under covered programs

As of January, 2003, of the most recent SPOC list, the following jurisdictions have elected not to participate in the Executive Order process: Alabama, Alaska, Colorado, Connecticut, Hawaii, Idaho, Kansas, Louisiana, Massachusetts, Minnesota, Montana, Nebraska, New Jersey, New York, Ohio, Oklahoma, Oregon, Palau, Pennsylvania, South Dakota, Tennessee, Vermont, Virginia and Washington. Applicants from these jurisdictions or for projects administered by federally-recognized Indian Tribes need take no action in regard to E.O. 12372.

Although the jurisdictions listed above no longer participate in the process, entities which have met the eligibility requirements of the program are still eligible to apply for a grant even if a State, Territory, Commonwealth, etc. does not have a SPOC.

All remaining jurisdictions participate in the Executive Order process and have established SPOCs. Applicants from participating jurisdictions should contact their SPOCs as soon as possible to alert them of the prospective applications and receive instructions. Applicants must submit any required material to the SPOCs as soon as possible so that the program office can obtain and review SPOC comments as part of the award process. The applicant must submit all required materials, if any, to the SPOC and indicate the date of this submittal (or the date of contact if no submittal is required) on the Standard Form 424, item 16a. Under 45 CFR 100.8(a)(2), a SPOC has 60 days from the application deadline to comment on proposed new or competing continuation awards.

SPOCs are encouraged to eliminate the submission of routine endorsements as official recommendations. Additionally, SPOCs are requested to clearly differentiate between mere advisory comments and those official State process recommendations which may trigger the “accommodate or explain” rule.

When comments are submitted directly to ACF, they should be addressed to: Department of Health and Human Services, Administration for Children and Families, Division of Discretionary Grants and Audit Resolution, 370 L'Enfant Promenade, SW., Mail Stop 6C-462, Washington, D.C. 20447.

The official list, including addresses, of the jurisdictions elected to participate in E.O. 12372 can be found at: http://www.whitehouse.gov/omb/grants/spoc.html.

5. Funding Restrictions

Non-Allowable Costs: Reimbursement of pre-award costs, costs for foreign travel, or costs for construction activities are not allowable charges to this Federal grant program. Indirect Costs: In order to charge Indirect Costs to the Federal Funds and/or use Indirect Costs as a matching share, the applicant must have an approved indirect costs agreement for the period in which the Federal funds would be awarded.

6. Other Submission Requirements

Submission by Mail: An Applicant must provide an original application with all attachments, signed by an authorized representative and two copies. The Application must be received at the address below by 4:30 p.m. Eastern Standard Time on or before the closing date. Applications should be mailed to: The U.S. Department of Health and Human Services, ACF Office of Grants Management, 370 L'Enfant Promenade SW, 8th Floor, Washington, DC 20447, Attention: Lois Hodge.

Hand-Deliver: Applicants choosing to hand-deliver applications by either themselves or by an agent, must have the application delivered by 4:30 EST between Monday and Friday (excluding Federal holidays) on the deadline date to: The U.S. Department of Health and Human Services, Administration for Children and Families, Division of Discretionary Grants, ACF Mail Center, 2nd Floor Aerospace Center, 901 D Street, SW., Washington, DC 20024, Attention: Lois Hodge.

An Applicant must provide an original application with all attachments signed by an authorized representative and two copies.

Electronic Submission: Please see section IV. 2 Content and Form of Application Submission, for guidelines and requirements when submitting applications electronically.

V. Application Review Information

1. Evaluation Criteria

Please see Generic and Specific Evaluation criteria for Priority Area #1, V.1, “Application Review Information, Evaluation Criteria” for crafting your response for the Project Narrative.

2. Review and Selection Process

Please see Priority Area# #1, V.2, “Application Review Information, Review and Selection Process”, for information on the review and selection process for this priority area.

Priority Area IV: Rapid Deployment of Good Ideas Through Medicaid Web Referencing

I. Priority Area IV. Description

Purpose: The purpose of Priority Area IV is to issue a grant award to fund one (1) project, designed to implement an Internet site that will provide relevant content and information on services under the Medicaid program for individuals with developmental disabilities and their families, including web-based State level “resource sheets”.

Individuals with developmental disabilities rely on multiple systems of support to simply live their lives. However, information that could be used to improve decision-making is not easily accessible to individuals with developmental disabilities and their families, advocates, providers of services and supports, or even to the policymakers who design and fund systems. Moreover, for individuals with developmental disabilities, access to relevant Internet-based information is limited.

Medicaid is a primary source of support and vital component of the lives of many individuals with developmental disabilities and their families. Yet the complex Medicaid system that is subject to an intricate law, regulation, and changes in administrative guidance is further complicated by variability in program structure from State to State. Many States have submitted plans to the Centers for Medicare and Medicaid (CMS) for Home and Community-Based Health Services (HCBS) waivers. These plans offer both opportunities and challenges for individuals with developmental disabilities, who wish to sustain or expand their opportunities to live and contribute to community life.

Although there is great variability among States in their use of Medicaid funds through general Medicaid services and through HCBS waivers, there are many common and basic Medicaid-related questions to which individuals need answers. Individuals with developmental disabilities and their families need to know how the Medicaid program can be used to access a broad range of home and community-based services and supports. Clear answers to frequently asked questions are often a user-friendly feature of Web sites on any topic.

To meet with intent of Priority Area IV, the following are the minimum requirements for the project design:

Project Design and Methods: Applicants should outline, as appropriate, the necessary steps to implement a Web site that is user-friendly and practical to a broad rage of users, including individuals with developmental disabilities, their families, their advocates, DD network members, State policymakers, regional CMS staff, and other interested persons. The Web site must:

• Be responsive to the information needs and wants of its users, and should collect and measure user satisfaction;

• Inform a variety of audiences using tools, such as frequently asked questions (FAQs) about Medicaid that provide timely answers;

• Be useful and attractive to young persons with developmental disabilities;

• Provide interactive links to national, State, and local resources that offer useful information about Medicaid;

• Increase the number of web-based State level “resource sheets” available on the Web site;

• Include audio-clips of personal stories in multiple languages where possible.

• Promote a consumer/self-advocate orientation;

• Employ principles of cultural competency;

• Attend to unserved and underserved populations affected by developmental disabilities, including those from multicultural backgrounds, rural and inner-city areas, migrant, homeless, and refugee families; and

• Provide a description of the Project commitment to work with ADD under the cooperative agreement.

Consumer Collaboration: In describing how the Web site will be developed and maintained, the applicant should discuss how collaborations through partnerships and coalitions will engage consumers, family leaders, service providers and professionals to assist in gathering accurate information and interpretations of the Medicaid program. These collaborations should:

• Allow for the exchange of ideas and expertise to improve services and effect systemic change;

• Be composed of strong advisory components that consist of a majority of individuals with developmental disabilities and offer a structure where individuals with developmental disabilities make real decisions that determine the outcomes of the project; and

• A description of how individuals with developmental disabilities and their families will be involved in all aspects of the design, implementation, and evaluation of the project.

Key Personnel: Each grantee should ensure that key project personnel have direct life experience with living with a developmental disability and/or the development and implementation of Web sites.

Civil Rights: Each grantee must comply with the Americans with Disabilities Act, where applicable, and Section 504 of the Rehabilitation Act of 1973 as amended by the Rehabilitation Act amendments of 1998.

Communication and Dissemination: Applicants must show that they (1) have past experience in providing information, including web-based resources, to people with developmental disabilities and (2) that they intend to comply with information and electronic technology accessibility standards and go beyond compliance to improve access as much as possible. At a minimum, each applicant must provide a detailed description of:

• Plans for communicating and disseminating information to the public through e-mail and other effective, affordable, and accessible forms of electronic communication, which may include monthly newsletters or regularly scheduled information briefs and fact sheets on topical areas.

• How information on the internet will be compliant with Section 508.

Annual Report: The applicant must describe how they will meet requirements of the ADD Performance System through the development of an annual report in the form of a briefing book. Specifically, the applicant must describe how they will publish a briefing book for the field that lists the most FAQs regarding Medicaid services. The FAQs must be revised annually to reflect the current issues related to Medicaid services. This briefing book must include general information about Medicaid, including the percentage of individuals with developmental disabilities who are more independent, self-sufficient, and integrated into the community as a result of Medicaid services. The briefing book will be due by the end of the project fiscal year and must be made available to the public.

II. Priority Area IV. Award Information

Funding Instrument Type: Cooperative Agreement.

Description of Federal Involvement with Cooperative Agreement: Please see “I. Funding Opportunity Description, General Description, Terms and Conditions of the Cooperative Agreement” for a complete description of the cooperative agreement.

Anticipated Total Priority Area Funding: $150,000.

Anticipated Number of Awards: 1 per budget period.

Ceiling on Amount of Individual Annual Awards: $150,000 per budget period.

Floor of Individual Award Amounts: None.

Average Projected Award Amount: $150,000 per project and budget period.

Length of Project: This announcement is inviting applications for project periods up to three years. Awards, however, will be made on a competitive basis, for a one-year budget period. Applications for continuation grants funded under these awards beyond the one-year budget period but within the three year project period will be entertained in subsequent years on a noncompetitive basis, subject to availability of funds, satisfactory progress of the grantee and a determination that continued funding would be in the best interest of the Government.

III. Priority Area IV. Eligibility Information

1. Eligible Applicants

State Governments, County Governments, City or Township Governments, State Controlled Institutions of Higher Education, Native American Tribal Governments (Federally Recognized), Public Housing Authorities/Indian Housing Authorities, Non-profits having 501 (c) (3) status with the IRS, other than institutions of higher education, Non-profits that do not have 501 (c) (3) status with the IRS, other than institutions of higher education, and private institutions of higher learning

Additional Information on Eligibility:

• Non-profit organizations must demonstrate proof of non-profit status. Proof of non-profit status is any one of the following:

a. A reference to the applicant organization's listing in the Internal Revenue Service's (IRS) most recent list of tax-exempt organizations described in the IRS code;

b. Copy of a currently valid IRS tax exemption certificate

c. A statement from a State taxing body, State Attorney General, or other appropriate State official certifying that the applicant organization has a non-profit status and that none of the net earnings accrue to any private shareholders or individuals

d. A certified copy of the organization's certificate of incorporation or similar document that clearly establishes non-profit status; or

e. Any of the items in the subparagraphs immediately above for a State or national parent and a statement signed by the parent organization that the applicant organization is a local non-profit affiliate.

Applicants are cautioned that the ceiling for individual awards is $150,000. An application exceeding the $150,000 threshold will be considered non-responsive and returned without review.

2. Cost Sharing or Matching

Grantees must provide at least 25 percent of the total approved cost of the project. The total approved cost of the project is the sum of the ACF share and the non-federal share. The non-federal share may be met by cash or in-kind contributions, although applicants are encouraged to meet their match requirements through cash contributions. For example, in order to meet the match requirements, a project with a total approved cost of $400,000, requesting $300,000 in ACF funds, must provide a non-federal share of at least 100,000 (25% of total approved project cost of $400,000). Grantees will be held accountable for commitments of non-federal resources even if over the amount of the required match. Failure to provide the amount will result in disallowance of Federal funds.

Applications that fail to include the required amount of cost-share will be considered non-responsive and returned without review.

3. Other (if Applicable)

On June 27, 2003, the Office of Management and Budget published in the Federal Register a new Federal policy applicable to all Federal grant applicants. The policy requires Federal grant applicants to provide a Dun and Bradstreet Data Universal Numbering System (DUNS) number when applying for Federal grants or cooperative agreements on or after October 1, 2003. The DUNS number will be required whether an applicant is submitting a paper application or using the government-wide electronic portal (http://www.Grants.gov). A DUNS number will be required for every application for a new award or renewal/continuation of an award, including applications or plans under formula, entitlement and block grant programs, submitted on or after October 1, 2003.

Please ensure that your organization has a DUNS number. You may acquire a DUNS number at no cost by calling the dedicated toll-free DUNS number request line at 1-866-705-5711 or you may request a number on-line at http://www.dnb.com.

Applicants are cautioned that the ceiling for individual awards is $150,000. Applications exceeding the $150,000 threshold will be considered non-responsive and will not be eligible for funding under this announcement.

Applications that fail to include the required amount of cost-share will be considered non-responsive and returned without review.

IV. Application and Submission Information

1. Address To Request an Application Package

Jennifer Johnson, Program Specialist, Administration on Developmental Disabilities, Office of Operations and Discretionary Grants, Mail Stop: HHH 405-D, 370 L'Enfant Promenade, SW., Washington, DC 20447, Phone: (202) 690-5982, E-mail: jjohnson1@acf.hhs.gov.

2. Content and Form of Application Submission

You may submit your application to us in either electronic or paper format. To submit an application electronically, please use the http://www.Grants.gov apply site. If you use Grants.gov, you will be able to download a copy of the application package, complete it off-line, and then upload and submit the application via the Grants.gov site. You may not e-mail an electronic copy of a grant application to us.

Please note the following if you plan to submit your application electronically via Grants.gov:

• Electronic submission is voluntary.

• When you enter the Grants.gov site, you will find information about submitting an application electronically through the site, as well as the hours of operation. We strongly recommend that you do not wait until the application deadline date to begin the application process through Grants.gov.

• To use Grants.gov, you, as the applicant, must have a DUNS Number and register in the Central Contractor Registry (CCR). You should allow a minimum of five days to complete the CCR registration.

• You will not receive additional point value because you submit a grant application in electronic format, nor will we penalize you if you submit an application in paper format.

• You may submit all documents electronically, including all information typically included on the SF 424 and all necessary assurances and certifications.

• Your application must comply with any page limitation requirements described in this Program Announcement and meet the application deadline.

• After you electronically submit your application, you will receive an automatic acknowledgement from Grants.gov that contains a Grants.gov tracking number. The Administration for Children and Families will retrieve your application from Grants.gov.

• We may request that you provide original signatures on forms at a later date.

• You may access the electronic application for this program on http://www.Grants.gov.

• You must search for the downloadable application package by the CFDA number.

Electronic Address where applications will be accepted: http://www.Grants.gov.

The required application package will include the following using the format described:

Format

The project description must not exceed 50 double-spaced, numbered, typed pages including an abstract and a table of contents. Any application which exceeds the page limit requirement will have the additional pages removed from the application prior to the review. The type must not be smaller than 12 pitch or a point size of 12.

Project Description

Please see Section V. 1. Criteria, for instructions on preparing the project summary/abstract and the full project description.

Budget

The applicant shall develop a full budget, including a completed SF 424A, “Budget Information—Non-Construction Programs,” a detailed budget breakdown by object class categories listed in the SF 424A, Section B, and a narrative budget justification, for a twelve-month budget period. The SF 424 forms are provided below in this announcement. The applicant must include the twelve-month Federal budget under Column (1), the twelve-month non-Federal budget under Column (2), and the total twelve-month budget under Column (5) of the SF 424A. The applicant shall use the three-column approach when preparing the detailed budget breakdown. For the remaining two years of the requested project period, the applicant must complete SF 424A, Section E, indicating the total forecasted budget for each year. The applicant must also provide a lump sum figure for non-Federal contributions for the second through third years of the project on SF 424A, Section C. Applicants have the option of omitting from the application copies (not the original) specific salary rates or amounts for individuals specified in the application budget. If the procurement policy of an applicant's institution includes an equipment definition other than the current Federal definition, a copy of the institution's current definition should be included in the application. Please see Section V.1 Criteria for additional guidance.

Appendix

The Appendix must not exceed 40 pages. Supplementary material, intended to provide examples of activities, may be included in the Appendix for reviewers but shall adhere to the page limit requirement. The Appendix must be included with the original and the two copies of the application.

Checklist for a Complete Application

The checklist below is for your use to ensure that your application package has been properly prepared.

—One original, signed and dated application, plus two copies;

—Application is from an organization that is eligible under the eligibility requirements, defined in the Priority Area description; and

—Application length does not exceed 50 pages

—Application for Federal Assistance (SF 424, REV 4-88);

—A completed SPOC certification with the date of SPOC contact entered in line 16, page 1 of the SF 424 if applicable;

—Budget Information—Non-Construction Programs (SF 424A, REV 4-88);

—Budget justification for Section B—Budget Categories;

—Table of Contents;

—Letter from the Internal Revenue Service, etc. to prove non-profit status, if necessary;

—Copy of the applicant's approved indirect cost rate agreement, if appropriate; (when charging indirect costs to Federal funds or when using indirect costs as a matching share);

—Project Description;

—Letter(s) of commitment verifying non-Federal cost share

—Any appendices/attachments;

—Assurances—Non-Construction Programs (Standard Form 424B, REV 4-88);

—Certification Regarding Lobbying; Certification of Protection of Human Subjects, if necessary; and

—Certification of the Pro Children Act of 1994, signature on the application represents certification.

• Assurances/Certifications

Applicants are required to submit a SF 424B, Assurances— Non-Construction Programs and the Certification Regarding Lobbying. Applicants must provide a certification concerning lobbying. Prior to receiving an award in excess of $100,000, applicants should furnish an executed copy of the lobbying certification (approved by the Office of Management and Budget under control number 0348-0046). Applicants must sign and return the certification with their application.

Applicants must also understand that they will be held accountable for the smoking prohibition included within Pub. L. 103-227, Part C Environmental Tobacco Smoke (also known as the Pro-Children's Act of 1994). By signing and submitting the application, applicants are providing the certification and need not mail back the certification with the application.

In addition, applicants are required under Section 162(c)(3) of the Act to provide assurances that the human rights of all individuals with developmental disabilities (especially those individuals without familial protection) who will receive services under projects assisted under Part E will be protected consistent with section 110 (relating to the rights of individuals with developmental disabilities). Each application must include a statement providing this assurance.

For research projects in which human subjects may be at risk, a Protection of Human Subjects Assurance may be required. If there is a question regarding the applicability of this assurance, contact the Office for Research Risks of the National Institutes of Health at (301) 496-7041.

Non-profit applicants must demonstrate proof of their non-profit status and this proof must be included in their application. Proof of non-profit status is any one of the following:

a. A reference to the applicant organization's listing in the Internal Revenue Service's (IRS) most recent list of tax-exempt organizations described in the IRS code;

b. A copy of a currently valid IRS tax exemption certificate;

c. A statement from a State taxing body, State Attorney General, or other appropriate State official certifying that the applicant organization has a non-profit status and that none of the net earnings accrue to any private shareholders or individuals;

d. A certified copy of the organization's certificate of incorporation or similar document that clearly establishes non-profit status; or

e. Any of the items in the subparagraphs immediately above for a State or national parent and a statement signed by the parent organization that the applicant organization is a local non-profit affiliate.

3. Submission Dates and Times

The closing time and date for receipt of applications is 4:30 p.m. (Eastern Time Zone) on August 23, 2004. Mailed or hand carried applications received after 4:30 p.m. on the closing date will be classified as late.

Deadline: Mailed applications shall be considered as meeting an announced deadline if they are received on or before the deadline time and date at the following address: U.S. Department of Health and Human Services, Administration for Children and Families, Office of Grants Management, 370 L'Enfant Promenade SW, 8th Floor, Washington, DC 20447, Attention: Lois Hodge.

Applicants are responsible for mailing applications well in advance, when using all mail services, to ensure that the applications are received on or before the deadline time and date.

Applications hand carried by applicants, applicant couriers, other representatives of the applicant, or by overnight/express mail couriers shall be considered as meeting an announced deadline if they are received on or before the deadline date, between the hours of 8 a.m. and 4:30 p.m., EST, at the following address: U.S. Department of Health and Human Services, Administration for Children and Families, Office of Grants Management, 370 L'Enfant Promenade SW, 8th Floor, Washington, DC 20447, Attention: Lois Hodge.

Late applications: Applications which do not meet the criteria above are considered late applications. ACF shall notify each late applicant that its application will not be considered in the current competition.

Extension of deadlines: ACF may extend application deadlines when circumstances such as acts of God (floods, hurricanes, etc.) occur, or when there are widespread disruptions of mail service. Determinations to extend or waive deadline requirements rest with the Chief Grants Management Officer.

Required Forms:

What to submit | Required content | Required form or format | When to submit
SF424, SF424a, SF424B | Per required form | May be found at http://www.acf.hhs.gov/program/ofs/forms.htm | August 23, 2004.
Project Summary/Abstract | Summary of application request | One page limit | August 23, 2004.
Project Description | Responsiveness to evaluation criteria | Format described in Review and Selection section. Limit 60 pages. Size 12 font, ½″ margins | August 23, 2004.
Certification Regarding Lobbying | Per required form | May be found at http://www.acf.hhs.gov/program/ofs/forms.htm | August 23, 2004.
Disclosure of Lobbying Activities (SF-LLL) | Per required form | May be found at http://www.acf.hhs.gov/program/ofs/forms.htm | August 23, 2004.
Environmental Tobacco Smoke Certification | Per required form | May be found at http://www.acf.hhs.gov/program/ofs/forms.htm | August 23, 2004.

Additional Forms:

Private-non-profit organizations are encouraged to submit with their applications the additional survey located under “Grant Related Documents and Forms” titled “Survey for Private, Non-Profit Grant Applicants.”

What to submit | Required content | Required form or format | When to submit
Survey for Private, Non-Profit Grant Applicants | Per required form | May be found on http://www.acf.hhs.gov/programs/ofs/form.htm | By application due date.

4. Intergovernmental Review

State Single Point of Contact (SPOC), Notification Under Executive Order 12372

This program is covered under Executive Order (E.O.) 12372, “Intergovernmental Review of Federal Programs,” and 45 CFR Part 100, “Intergovernmental Review of Department of Health and Human Services Programs and Activities.” Under the Order, States may design their own processes for reviewing and commenting on proposed Federal assistance under covered programs.

As of January, 2003, of the most recent SPOC list, the following jurisdictions have elected not to participate in the Executive Order process: Alabama, Alaska, Colorado, Connecticut, Hawaii, Idaho, Kansas, Louisiana, Massachusetts, Minnesota, Montana, Nebraska, New Jersey, New York, Ohio, Oklahoma, Oregon, Palau, Pennsylvania, South Dakota, Tennessee, Vermont, Virginia and Washington. Applicants from these jurisdictions or for projects administered by federally-recognized Indian Tribes need take no action in regard to E.O. 12372.

Although the jurisdictions listed above no longer participate in the process, entities which have met the eligibility requirements of the program are still eligible to apply for a grant even if a State, Territory, Commonwealth, etc. does not have a SPOC.

All remaining jurisdictions participate in the Executive Order process and have established SPOCs. Applicants from participating jurisdictions should contact their SPOCs as soon as possible to alert them of the prospective applications and receive instructions. Applicants must submit any required material to the SPOCs as soon as possible so that the program office can obtain and review SPOC comments as part of the award process. The applicant must submit all required materials, if any, to the SPOC and indicate the date of this submittal (or the date of contact if no submittal is required) on the Standard Form 424, item 16a. Under 45 CFR 100.8(a)(2), a SPOC has 60 days from the application deadline to comment on proposed new or competing continuation awards.

SPOCs are encouraged to eliminate the submission of routine endorsements as official recommendations. Additionally, SPOCs are requested to clearly differentiate between mere advisory comments and those official State process recommendations which may trigger the “accommodate or explain” rule.

When comments are submitted directly to ACF, they should be addressed to: Department of Health and Human Services, Administration for Children and Families, Division of Discretionary Grants and Audit Resolution, 370 L'Enfant Promenade, SW., Mail Stop 6C-462, Washington, DC 20447.

The official list, including addresses, of the jurisdictions elected to participate in E.O. 12372 can be found at: http://www.whitehouse.gov/omb/grants/spoc.html.

5. Funding Restrictions

Non-Allowable Costs: Reimbursement of pre-award costs, costs for foreign travel, or costs for construction activities are not allowable charges to this Federal grant program.

Indirect Costs: In order to charge Indirect Costs to the Federal Funds and/or use Indirect Costs as a matching share, the applicant must have an approved indirect costs agreement for the period in which the Federal funds would be awarded.

6. Other Submission Requirements

Submission by Mail: An Applicant must provide an original application with all attachments, signed by an authorized representative and two copies. The Application must be received at the address below by 4:30 PM Eastern Standard Time on or before the closing date. Applications should be mailed to:

The U.S. Department of Health and Human Services, ACF Office of Grants Management, 370 L'Enfant Promenade SW., 8th Floor, Washington, DC 20447, Attention: Lois Hodge.

Hand-Deliver: Applicants choosing to hand-deliver applications by either themselves or by an agent, must have the application delivered by 4:30 EST between Monday and Friday (excluding Federal holidays) on the deadline date to: The U.S. Department of Health and Human Services, Administration for Children and Families, Division of Discretionary Grants, ACF Mail Center, 2nd Floor Aerospace Center, 901 D Street, SW., Washington, DC 20024, Attention: Lois Hodge.

An Applicant must provide an original application with all attachments signed by an authorized representative and two copies.

Electronic Submission: Please see section IV. 2 Content and Form of Application Submission, for guidelines and requirements when submitting applications electronically.

V. Application Review Information

1. Evaluation Criteria

Please see Generic and Specific Evaluation criteria for Priority Area #1, V.1, “Application Review Information, Evaluation Criteria” for crafting your response for the Project Narrative.

2. Review and Selection Process

Please see Priority Area# #1, V.2, “Application Review Information, Review and Selection Process,” for information on the review and selection process for this priority area.

Please note that the Award and Contact information and requirements below are applicable to all three Priority Areas in this Program Announcement.

VI. Award Administration Information

1. Award Notices

Anticipated Announcement and Award Dates: Subject to the availability of funding, ADD intends to award new grants resulting from this Program Announcement during the fourth quarter of Fiscal Year 2004. For the purpose of the awards under this Program Announcement, the successful applicants should expect a project start date of September 30, 2004.

Award Notices: Successful and unsuccessful applicants will be notified of the results of this grant competition within 90 days of the application deadline. Successful applicants will receive by U.S. postal mail a letter signed by the Commissioner of the Administration on Developmental Disabilities (ADD) with an official notice of award (the Financial Assistance Award) signed by the grants management officer. This notice of award signed by the grants officer is the authorization to begin performance.

Administrative and National Policy Requirements:

45 CFR-Part 74;

45 CFR-Part 92.

Special Terms and Condition of Award: None.

Special Reporting Requirements: Programmatic Reports and Financial Reports are required semi-annually. All required reports must be submitted in a timely manner, in recommended formats (to be provided), and the final report must also be submitted on disk or electronically using a standard word-processing program.

VII. Agency Contacts

Program Office Contact: Jennifer Johnson, Program Specialist, 370 L'Enfant Promenade, SW., Washington, DC 20447, Telephone: (202) 690-5982, E-mail: jjohnson1@acf.hhs.gov, fax (202) 690-6904.

Grants Management Office Contact: Lois Hodge, Grants Officer, 370 L'Enfant Promenade, SW., Washington, DC 20447, (202) 401-2344, E-mail lhodge@acf.hhs.gov.

VIII. Other Information

http://www.acf.hhs.gov/programs/add/.

Dated: June 28, 2004.
Patricia A. Morrissey,
Commissioner, Administration on Developmental Disabilities.

[FR Doc. 04-15052 Filed 7-6-04; 8:45 am]

BILLING CODE 4184-01-P